ENVIRONMENTAL PROTECTION AGENCY

40 CFR Parts 271 and 272

[EPA-R08-RCRA-2024-0408; FRL-12226-02-R8]

Utah: Final Authorization of State Hazardous Waste Management Program Revisions and Incorporation by Reference

AGENCY: Environmental Protection Agency (EPA).

ACTION: Direct final rule.

SUMMARY: The State of Utah Department of Environmental Quality has applied to the Environmental Protection Agency (EPA) for final authorization of the changes to its hazardous waste program under the Resource Conservation and Recovery Act (RCRA). The EPA has determined that these changes satisfy all requirements needed to qualify for final authorization and is authorizing the State's changes through this direct final action. The EPA uses the regulations entitled, “Approved State Hazardous Waste Management Programs” to provide notice of the authorization status of State programs and to incorporate by reference those provisions of State statutes and regulations that will be subject to the EPA's inspection and enforcement. This rule also codifies in the regulations the approval of Utah's hazardous waste management program and incorporates by reference authorized provisions of the State's regulations.

DATES: This direct final rule is effective on February 21, 2025 unless the EPA receives adverse written comment by January 22, 2025. If the EPA receives any such comment, we will publish a timely withdrawal of this direct final rule in the Federal Register informing the public that the rule will not take effect. The Director of the Federal Register approves the incorporation by reference of certain material listed in this direct final rule as of February 21, 2025.

ADDRESSES: Submit your comments, identified by Docket ID No. EPA-R08-RCRA-2024-0408; FRL-12226-02-R8 by one of the following methods:

1. Federal eRulemaking Portal: https://www.regulations.gov. Follow the on-line instructions for submitting comments.

2. Email: lin.moye@epa.gov.

3. Fax: (303) 312-6116 (prior to faxing, please notify the EPA contact listed below).

4. Mail, hand delivery or courier: Moye Lin, Land, Chemicals and Redevelopment Division, EPA Region 8, Mailcode 8LCR-RC, 1595 Wynkoop Street, Denver, Colorado 80202-1129. Courier or hand deliveries are only accepted during the Regional Office's normal hours of operation. The public is advised to call in advance to verify business hours. Special arrangements should be made for deliveries of boxed information.

Instructions: The EPA must receive your comments by January 22, 2025. Direct your comments to EPA-R08-RCRA-2024-0408; FRL-12226-02-R8. The EPA's policy is that all comments received will be included in the public docket without change and may be available online at https://www.regulations.gov, including any personal information provided, unless the comment includes information claimed to be Confidential Business Information (CBI) or other information whose disclosure is restricted by statute. Do not submit information that you consider to be CBI or otherwise protected through https://regulations.gov, or email. The Federal https://www.regulations.gov website is an “anonymous access” system, which means the EPA will not know your identity or contact information unless you provide it in the body of your comment. If you send an email comment directly to the EPA without going through https://www.regulations.gov, your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in hard copy. Publicly available docket materials are available electronically through https://www.regulations.gov. For alternative access to docket materials, please contact the person identified in the FOR FURTHER INFORMATION CONTACT section.

FOR FURTHER INFORMATION CONTACT: Moye Lin, Land, Chemicals and Redevelopment Division, EPA Region 8, 1595 Wynkoop Street, Denver, Colorado 80202-1129; telephone number: (303) 312-6667; email address: lin.moye@epa.gov.

SUPPLEMENTARY INFORMATION:

I. Authorization of Revisions to Utah's Hazardous Waste Program

A. Why are revisions to State programs necessary?

States which have received final authorization from the EPA under RCRA section 3006(b), 42 U.S.C. 6926(b), must maintain a hazardous waste program that is equivalent to, consistent with, and no less stringent than the Federal program. As the Federal program changes, States must change their programs and ask the EPA to authorize the changes. Changes to State programs may be necessary when Federal or State statutory or regulatory authority is modified or when certain other changes occur. Most commonly, States must change their programs because of changes to the EPA's regulations in 40 Code of Federal Regulations (CFR) parts 124, 260 through 268, 270, 273 and 279.

B. What authorization decision has the EPA made in this rule?

On April 13, 2023, Utah submitted a final complete program revision application seeking authorization of changes to its hazardous waste program. The EPA concludes that Utah's application to revise its authorized program meets all of the statutory and regulatory requirements established by RCRA. Therefore, we grant Utah final authorization to operate its hazardous waste program with the changes described in the authorization application. Utah has responsibility for permitting Treatment, Storage, and Disposal Facilities (TSDFs), and for carrying out the aspects of the RCRA program described in its revised program application, subject to the limitations of the Hazardous and Solid Waste Amendments of 1984 (HSWA), for all areas within the State, except for (1) lands located within formal Indian Reservations within or abutting the State of Utah, including the Northwestern Band of the Shoshone Nation, Paiute Indian Tribe (Cedar Band of Paiutes, Kanosh Band of Paiutes, Koosharem Band of Paiutes, Indian Peaks Band of Paiutes, and Shivwits Band of Paiutes), Skull Valley Band of Goshute Indian, and Ute Indian Tribe of the Uintah and Ouray Reservation, (2) any land held in trust by the United States for an Indian Tribe, (3) and any other land, whether on or off a reservation that qualifies as “Indian country” within the meaning of 18 U.S.C. 1151. New Federal requirements and prohibitions imposed by Federal regulations that the EPA promulgates under the authority of HSWA take effect in authorized States before they are authorized for the requirements. Thus, the EPA will implement those requirements and prohibitions in Utah, including issuing permits, until Utah is authorized to do so.

C. What is the effect of today's authorization decision?

The effect of this decision is that a facility in Utah subject to RCRA will have to comply with the authorized State requirements instead of the equivalent Federal requirements in order to comply with RCRA. The State of Utah will continue to have enforcement responsibilities under its State hazardous waste program for violations of such program, but the EPA retains its authority under RCRA sections 3007, 3008, 3013, and 7003, which include, among others, authority to:

• Conduct inspections and require monitoring, tests, analyses, or reports;

• Enforce RCRA requirements; suspend or revoke permits; and

• Take enforcement actions after notice to and consultation with the State.

This action to approve these provisions would not impose additional requirements on the regulated community because the regulations for which the State of Utah is requesting authorization are already effective under State law and are not changed by the act of authorization.

D. Why is the EPA using a direct final rule?

The EPA is publishing this rule without a prior proposal because we view this as a noncontroversial action and anticipate no adverse comment. However, in the “Proposed Rules” section of this Federal Register, we are publishing a separate document that will serve as the proposed rule allowing the public an opportunity to comment. We will not institute a second comment period on this action. Any parties interested in commenting must do so at this time. For further information about commenting on this rule, see the ADDRESSES section of this document.

E. What happens if the EPA receives comments opposing this action?

If the EPA receives comments that oppose this authorization, we will publish a timely withdrawal in the Federal Register informing the public that this direct final rule will not take effect. We will address all public comments in a later Federal Register. You will not have another opportunity to comment, therefore, if you want to comment on this action, you must do so at this time.

F. For what has Utah previously been authorized?

Utah initially received final authorization on October 10, 1984, effective October 24, 1984 (49 FR 39683) to implement the RCRA hazardous waste management program. We granted authorization for changes to their program on: February 21, 1989, effective March 7, 1989 (54 FR 7417); May 23, 1991, effective July 22, 1991 (56 FR 23648); August 6, 1991, effective July 22, 1991 (56 FR 37291); May 15, 1992, effective July 14, 1992 (57 FR 20770); February 12, 1993, effective April 13, 1993 (58 FR 8232); May 5, 1993, effective April 13, 1993 (58 FR 26689); October 14, 1994, effective December 13, 1994 (59 FR 52084); November 10, 1994, effective December 13, 1994 (59 FR 56114), May 20, 1997, effective July 21, 1997 (62 FR 27501); January 13, 1999, effective March 15, 1999 (64 FR 02144); October 16, 2000, effective January 16, 2001 (65 FR 61109); May 7, 2002, effective July 8, 2002 (67 FR 30599); June 11, 2003, effective June 11, 2003 (68 FR 34829); and May 23, 2008, effective May 23, 2008 (73 FR 29987). On April 23, 2008 (73 FR 21843), the EPA withdrew the immediate final rule for final authorization of Utah's hazardous waste management program revisions published March 7, 2008 (73 FR 12277) following receipt of comment opposing this authorization.

G. What changes is EPA authorizing with this action?

On April 13, 2023, the State of Utah submitted a final complete program revision application seeking authorization of their changes in accordance with 40 CFR 271.21. We now make a final decision, subject to receipt of written comments that oppose this action, that Utah's hazardous waste program satisfies all the requirements necessary to qualify for final authorization. Therefore, we grant Utah final authorization for the following changes:

1. Program Revision Changes for Federal Rules

The State of Utah revisions consist of regulations which specifically govern Federal hazardous waste revisions promulgated from February 12, 1997, through December 9, 2019 (RCRA Checklists 156, 190, 200, 202, 205 through 209, 211 through 215, 217 through 220, 222 through 233C, and 233D2 through 242). The State requirements from the Utah Administrative Code (UAC), effective January 17, 2023, are included in the chart below.

Description of Federal requirement | Federal Register date and page | Analogous State authority
1. Military Munitions Rule (Checklist 156) | 62 FR 6622; 2/12/97 | Utah Administrative Code (UAC) R315-260-10(c)(52) through (54), and (95); R315-262-20(f); R315-264-1(g)(8)(iv); R315-265-1(c)(11)(iv); R315-266-202(d); R315-270-1(c)(3)(iii); R315-270-42(i).
2. Land Disposal Restrictions Phase IV—Deferral for PCBs in Soil (Checklist 190) | 65 FR 81373; 12/26/00 | R315-268-32(a); R315-268-32(b); R315-268-48(a)/table UTS; R315-268-49(d); R315-268-51.
3. Zinc Fertilizer Rule (Checklist 200) | 67 FR 48393; 7/24/02 | R315-261-4; R315-261-4(a)(20) and (21); R315-266-20 and 20(d); R315-268-40(i).
4. Hazardous Air Pollutant Standards for Combustors—Corrections 2 (Checklist (202) | 67 FR 77687; 12/19/02 | R315-270-19(e); R315-270-22 introductory paragraph; R315-270-62 introductory paragraph; R315-270-66 introductory paragraph.
5. NESHAP: Surface Coating of Automobiles and Light-Duty Trucks (Checklist 205) | 69 FR 22601; 4/26/04 | R315-264-1050; R315-264-1050(h); R315-265-1 introductory paragraph.
6. Nonwastewaters from Dyes and Pigments (Checklist 206) | 70 FR 9138; 2/24/05 70 FR 35032; 6/16/05 | R315-261-4(b)(15); R315-261-32; R315-261-1091; R315-261-1092; R315-268-20; R315-268-40 last paragraph; R315-268-48/Universal Treatment Standards Table.
7. Uniform Hazardous Waste Manifest Rule (Checklist 207) | 70 FR 10776; 3/4/05 70 FR 35034; 6/16/05 | R315-260-10; R315-260-10(c)(33); R315-260-10(c)(92) and (93); R315-261-7(b)(1)(iii); R315-262-20(a)(1) and (3); R315-262-21; R315-262-27; R315-262-32(b); R315-262-33; R315-262-34; R315-262-54; R315-262-60; R315-262/appendix; R315-263-20(a)(1)-(3); R315-263-20(g); R315-263-21(b)(1); R315-263-21(c); R315-264-70; R315-264-71(a), (b)(4), and (e); R315-264-72; R315-264-76; R315-265-70; R315-265-71(a)(1) through (3), (b)(4) and (e); R315-265-72(a) through (g); R315-265-76.
8. Methods Innovation Rule and SW-846 Final Update IIIB (Checklist 208) | 70 FR 34538; 6/14/05 70 FR 44150; 8/1/05 | R315-260-11; R315-260-21(d); R315-260-22(d)(1)(i); R315-261-3(a)(2)(v); R315-261-21(a)(1); R315-261-22; R315-261-35(b)(2)(iii); R315-261-38(c)(7) introductory paragraph; R315-261-1090; R315-264-190(a); R315-264-314(c); R315-264-1034(c)(1)(ii); R315-264-1034(c)(1)(iv); R315-264-1034(d)(1)(iii); R315-264-1034(f); R315-264-1063(d)(2); R315-264-1107; R315-265-190(a); R315-265-1 introductory paragraph; R315-265-1034(c)(1)(ii); R315-265-1034(c)(1)(iv) introductory paragraph; R315-265-1034(c)(1)(iv)(A) and (B); R315-265-1034(d)(1)(iii); R315-265-1034(f); R315-265-1081 “Waste stabilization process”; R315-265-1084(a)(3(ii)(C); R315-265-1084(a)(3)(iii) introductory paragraph and (A) through (G); R315-265-1084(b)(3)(ii)(C); R315-265-1084(c)(3)(i); R315-266-100(d)(1)(ii); R315-266-100(g)(2); R315-266-102(b)(1); R315-266-106(a); R315-266-112(b)(1) introductory paragraph; R315-266-112(b)(2)(i) and Note; R315-266-608; R315-268-40(b); R315-268-40 last paragraph; R315-268-48/UTS table, Footnote 4; R315-268-56; R315-270-19(c)(1)(iii) and (iv); R315-270-22(a)(2)(ii)(B); R315-270-62(b)(2)(i)(C) and (D); R315-270-66(c)(2)(i) and (ii); R315-15-1.1(b)(1)(ii).
9. Universal Waste Rule Specific Provisions for Mercury Containing Equipment (Checklist 209) | 70 FR 45508; 8/5/05 | R315-260-10(c)(94); R315-260-10(c)(165)(iii); R315-261-9(c); R315-264-1(g)(11)(iii); R315-265-1(c)(14)(iii); R315-268-1(f)(3); R315-270-1(c)(2)(viii)(C); R315-273-1(a)(3); R315-273-4, R315-273-9(b), (j), (k), (n), (p) and (p)(3); R315-273-13(c); 315-273-14(d); R315-273-32(b)(4) and (5); R315-273-33(c); R315-273-34(d)(1) and (2).
10. Revision of Wastewater Treatment Exemptions for Hazardous Waste Mixtures (“Headworks Exemptions”) (Checklist 211) | 70 FR 57769; 10/4/05 | R315-261-3(a)(2)(iv)(A), (B), (D), (F), and (G).
11. NESHAP: Final Standards for Hazardous Waste Combustors (Phase I Final Replacement Standards and Phase II) (Checklist 212) | 70 FR 59402; 10/12/05 | R315-260-11; R315-264-340(b)(1) and (5); R315-266-100(b); R315-270-10(l)(1); R315-270-19(e); R315-270-22 introductory paragraph; R315-270-24(d)(3); R315-270-25(e)(3); R315-270-32(b)(3); R315-270-42(j) and (k); R315-270-42, appendix I; R315-270-62 introductory paragraph; R315-270-66 introductory paragraph; R315-270-235.
12. Burden Reduction Initiative (Checklist 213) | 71 FR 16862; 4/4/06 | R315-260-31(b)(2) through (b)(7); R315-261-4(a)(9)(iii)(E); R315-261-4(f)(9); R315-264-15(b)(4); R315-264-16(a)(4); R315-264-52(b); R315-264-56(i); R315-264-73(b)(1), (b)(2), (b)(6), (b)(8), (b)(10), (b)(18) and (b)(19); R315-264-98(d), (g)(2) and (g)(3); R315-264-99(f) and (g); R315-264-100(g); R315-264-113(e)(5); R315-264-115; R315-264-120; R315-264-143(i); R315-264-145(i); R315-264-147(e); R315-264-174; R315-264-191(a); R315-264-191(b)(5)(ii); R315-264-192(a) introductory paragraph and (b); R315-264-193(a)(1) and (a)(2); R315-264-193(i)(2); R315-264-195(b) through (h); R315-264-196(f); R315-264-251(c); R315-264-280(b); R315-264-314(a); R315-264-314; R315-264-343(a)(2); R315-264-347(d); R315-264-554(c)(2); R315-264-571(a) through (c); R315-264-573(a)(4)(ii); R315-264-573(g); R315-264-574(a); R315-264-1061(b)(1), (b)(2) and (d); R315-264-1062(a); R315-264-1100 introductory paragraph; R315-264-1101(c)(2) and (c)(4); R315-265-15(b)(4); R315-265-16(a)(4); R315-265-52(b); R315-265-56(i); R315-265-73(b) introductory paragraph; R315-265-73(b)(1) through (8), and (15); R315-265-90(d)(1) and (3); R315-265-93(d)(2) and (d)(5); R315-265-113(e)(5); R315-265-115; R315-265-120; R315-265-143(h); R315-265-145(h); R315-265-147(e); R315-265-174; R315-265-191(a); R315-265-191(b)(5)(ii); R315-265-192(a) and (b); R315-265-193(a)(1)-(2) and (i)(2); R315-265-195(a) through (g), except (d); R315-265-196(f); R315-265-221(a); R315-265-224(a); R315-265-259(a); R315-265-1 introductory paragraph; R315-265-1101(c)(2) and (c)(4); R315-266-102(e)(10); R315-266-103(d); R315-266-103(k); R315-268-7(a)(1) and (2), and (b)(6); R315-268-9(a) and (d); R315-270-14(a); R315-270-16(b); R315-270-26(c)(15).
13. Corrections to Errors in the Code of Federal Regulations (Checklist 214) | 71 FR 40254; 7/14/06 | R315-260-10(c)(72)(iii); R315-260-10(c)(115); R315-260-10(c)(165); R315-260-10(c)(170); R315-260-22(a)(1); R315-260-22(d)(1)(ii); R315-260-40(a); R315-260-41 introductory paragraph; R315-261-2 (c)(1)(i); R315-261-3(a)(2)(i); R315-261-4(a)(20)(v); R315-261-4(b)(6)(i)(B); R315-261-4(b)(6)(ii) introductory paragraph; R315-261-4(b)(6)(ii)(D) and (F); R315-261-4(b)(9); R315-261-4(e)(2)(vi); R315-261-4(e)(3)(i); R315-261-6(a)(2)(i)-(v); R315-261-6(c)(2); R315-261-21(a)(3) introductory paragraph; R315-261-21(a)(3)(i); R315-261-21(a)(3)(ii) introductory paragraph; R315-261-21(a)(3)(ii); R315-261-21(a)(4) introductory paragraph; R315-261-21(a)(4)(i) introductory paragraph; R315-261-21(a)(4)(i); R315-261-21 Note 1 through Note 4; R315-261-24(b); R315-261-31(a)/table 2; R315-261-32/table “K107” entry; R315-261-32/table “K069” entry; R315-261-33(e) and (f); R315-261-1091; R315-261-1092; R315-262-70; R315-264-1(g)(2); R315-264-4; R315-264-13(b)(7)(iii)(B); R315-264-17(b) introductory paragraph; R315-264-18(a)(2)(iii); R315-264-18(b)(2)(iii); R315-264-97 (a)(1) introductory paragraph; R315-264-97(a)(1)(i); R315-264-97(i)(5); R315-264-98(a)(2); R315-264-98(g)(4)(i); R315-264-99(h)(2) introductory paragraph; R315-264-101(d); R315-264-111(c); R315-264-112(b)(8); R315-264-115; R315-264-116; R315-264-118(c); R315-264-119(b)(1)(ii); R315-264-140(d)(1); R315-264-142(b)(2), (b)(7) and (b)(8); R315-264-143(e)(5); R315-264-145(a)(3)(i); R315-264-145(d)(6); R315-264-145(f)(11) introductory paragraph; R315-264-147(h)(1); R315-264-151(b); R315-264-151(f) introductory paragraph; R315-264-151(g); R315-264-151(h)(2); R315-264-151(i), item 2.(e) and (d); R315-264-151(k); R315-264-151(k), CERTIFICATE OF VALID CLAIM; R315-264-151(l); R315-264-151(l), CERTIFICATION OF VALID CLAIM; R315-264-151(m)(1), CERTIFICATION OF VALID CLAIM, section 8.(c); R315-264-151(n)(1), under STANDBY TRUST AGREEMENT, section 3.(c)(1); R315-264-151(n)(1), section 3.(e)(3); R315-264-151(n)(1), section 12; R315-264-151(n)(1), section 16; R315-264-193(c)(4), Note; R315-264-193(d)(4); R315-264-193(e)(2)(ii); R315-264-193(e)(2)(iii); R315-264-193(e)(2)(v)(A); R315-264-193(e)(2)(v)(B); R315-264-193(e)(3)(i); R315-264-193(e)(3)(ii); R315-264-193(g)(1)(iii); R315-264-193(g)(1)(iv); R315-264-193(g)(2)(i)(A); R315-264-221(c)(1)(i)(B); R315-264-221(c)(2)(ii); R315-264-221(e)(1); R315-264-221(e)(2)(i)(B) and (C); R315-264-223(b)(1) and (b)(2); R315-264-251(a)(2)(i)(A); R315-264-252(a) and (b); R315-264-259(b); R315-264-280(c)(7); R315-264-280(d) introductory paragraph; R315-264-283(a); R315-264-301(c)(2) and (e)(2)(i)(B); R315-264-302(a) and (b); R315-264-304(b)(1);
|  | R315-264-314(e)(2); R315-264-317(a) introductory paragraph; R315-264-344(b); R315-264-552(e)(4)(iii) and (iv)(F); R315-264-552(e)(6)(iii)(E); R315-264-553(e) introductory paragraph; R315-264-554(a) introductory paragraph; R315-264-555(e)(6); R315-264-573(a)(1); R315-264-573(a)(4)(i); R315-264-573(a)(5); R315-264-573(b) introductory paragraph; R315-264-573(m)(2) and (m)(3); R315-264-600; R315-264-601(a) introductory paragraph; R315-264-601(b)(11); R315-264-601(c)(4); R315-264-1030(c); R315-264-1033(f)(2)(vii)(B); R315-264-1034(b)(2); R315-264-1035(c)(4)(i) and (ii); R315-264-1050(f); R315-264-1058(c)(1); R315-264-1064(c)(3); R315-264-1080(a) and (c); R315-264-1101(b)(3)(iii); R315-264-1101(c)(3) introductory paragraph, (c)(3)(i) and (d); R315-264-1102(a); R315-264-1103, table 1; R315-264-1103, table 2, section 2.(d); R315-265-1(c)(6); R315-265-12(a)(1); R315-265-14(b)(1); R315-265-16(b); R315-265-19(c)(2); R315-265-56(b); R315-265-90(d); R315-265-110(b)(4); R315-265-111(c); R315-265-112(b)(5) and (d)(4); R315-265-113(b) and (e)(4); R315-265-117(b); R315-265-119(b)(1)(ii); R315-265-140(b) and (b)(2); R315-265-142(a); R315-265-145(e)(11); R315-265-147(a)(1)(i), (b)(1)(i) and (b)(1)(ii); R315-265-174; R315-265-193(e)(2)(v)(A) and (B); R315-265-193(i)(2); R315-265-194(b)(1) and (2); R315-265-197(b); R315-265-221(a), (d)(2)(i)(A) and (d)(2)(i)(B); R315-265-224(b)(1); R315-265-228(a)(2)(iii)(D); R315-265-228(b)(2); R315-265-229(b)(2) and (b)(3); R315-265-255(b); R315-265-259(b)(1); R315-265-1 intro; R315-265-1033(f)(2)(ii); R315-265-1035(b)(2), (b)(2)(i) and (c)(4)(i); R315-265-1080(a); R315-265-1085(h)(3); R315-265-1087(b); R315-265-1090(f)(1); R315-265-1100(d); R315-265-1101(b)(3)(i)(B), (b)(3)(iii), (c)(3) and (d); R315-266-70(a); R315-266-80(a)(1) through (10); R315-266-100(b)(2)(iv), (d)(3)(i)(A) and (g) introductory paragraph; R315-266-102(a)(2)(vi), (e)(3)(i)(E), (e)(5)(i)(C), (e)(6)(ii)(B)(II), (e)(8)(iii); R315-266-103(a)(4)(vii), (b)(2)(v)(B)(II), (b)(5)(ii)(A), (b)(6)(viii)(A), (c)(1)(i), (c)(1)(ii)(A)(II), (c)(1)(ix) introductory paragraph, (c)(1)(ix)(A), (c)(4)(iv)(C)(I) and (g)(1)(i); R315-266-106(d)(1); R315-266-109(a)(2)(ii) and (b) introductory paragraph; R315-266-602 through 605; R315-266-607, 608 and 611; R315-268-2(g); R315-268-4(a)(3) introductory paragraph; R315-268-6(c)(5) introductory paragraph; R315-268-7(a)(1), (7)(a)(3)(ii), 7(a)(4)/table 1, entry 8, 7(b)(3)(ii)/table 2, entry 5; 7(b)(4)(ii), 7(c)(2) and 7(d); R315-268-14(b) and (c); R315-268-40(g); R315-268-40, last paragraph; R315-268-42/table 1; R315-268-44(c); R315-268-45, last paragraph; R315-268-48/table “UNIVERSAL TREATMENT STANDARDS”; R315-268-49(d); R315-268-50(c) and (g); R315-268-55; R315-270-1(c)(3)(i); R315-270-2; R315-270-10(j); R315-270-11(d)(1) and (d)(2); R315-270-14(a), (b)(11)(ii)(B), (b)(19)(iii) and (b)(21); R315-270-17(f); R315-270-18(b) and (g); R315-270-20(i)(2); R315-270-26(c)(15); R315-270-33(b) introductory paragraph; R315-270-42 appendix I; R315-270-70(a) introductory paragraph; R315-270-72(b)(2); R315-273-9(p), (p)(1) and (2); R315-273-13(b); R315-273-14(a); R315-273-34(a); R315-15-1.1(b)(2), 1.2(a), 1.2/table 1, 4.5(a), 4.5(c)(2), 4.6(a), 5.3(a), 5.3(b), 5.3(b)(1)(ii), 5.3(b)(6)(ii)-(iii), 5.6(a), 5.6(b)(2)(i)(B), 5.7(a)(2), 5.8(a)(2)(ii), 5.11, 6.4(b)(3), 7.1(b)(1) and 9.1(d)(1).
14. Cathode Ray Tubes Rule (Checklist 215) | 71 FR 42928; 7/28/06 | R315-260-10(c)(18), (c)(29), (c)(31), (c)(32); R315-261-4(a)(22); R315-261-39 through 41.
15. NESHAP: Final Standards for Hazardous Waste Combustors (Phase I Final Replacement Standards and Phase II) Amendments (Checklist 217) | 73 FR 18970; 4/8/08 | R315-264-340(b)(1), (b)(3) and (b)(5); R315-266-100(b)(3)(iii).
16. F019 Exemption for Wastewater Sludges from Auto Manufacturing Zinc Phosphating Processes (Checklist 218) | 73 FR 31756; 6/4/08 | R315-261-31(a)/table 2 F019 listing; R315-261-31(b)(4).
17. Revisions to the Definition of Solid Waste (Checklist 219) | 73 FR 64668; 10/30/08 | R315-260-10(c)(55)(i), (c)(66), (c)(80), (c)(83) and (c)(154); R315-260-30, introductory paragraph, (b), (d) and (e); R315-260-33 introductory paragraph and (a); R315-260-34(a) except last sentence, (b) and (c); R315-261-2(a)(1) through (a)(2)(i)(C), and (c)(3); R315-261-4(a)(23) through (25); R315-261-140 through 151; R315-270-42, table, appendix I.
18. Academic Laboratories Generator Standards (Checklist 220) | 73 FR 72912; 12/1/08 | R315-261-5(c)(6) and (7); R315-261-10; R315-262-200 through 216.
19. Hazardous Waste Technical Corrections and Clarifications (Checklist 223) | 75 FR 12989, 3/18/10; 75 FR 31716, 6/4/10 | R315-260-10(c)(100); R315-261-1(c)(10); R315-261-2(c)/table 1; R315-261-4(a)(17)(vi); R315-261-6(a)(2) introductory paragraph, (a)(2)(ii), (a)(3), (c)(1) and (d); R315-261-7(a), (b)(1) and (b)(3); R315-261-23(a)(8); R315-261-30(c) and (d); R315-261-31(a) table 2; R315-261-32(a) table; R315-261-33(f) table; R315-261-1091; R315-262-10(f); R315-261-11(d); R315-262-23(f); R315-262-41(b); R315-262-42(a) and (c); R315-263-12(a); R315-264-52; R315-264-56(d)(2); R315-264-72(e)(6), (f)(1), (f)(7) and (f)(8); R315-264-314(d); R315-264-316(b); R315-264-552(a)(3)(ii) through (iv) and (e)(4)(iv)(F); R315-265-52; R315-265-56(d)(2); R315-265-72(e)(6), (f)(1), (f)(7) and (f)(8); R315-265-1; R315-266-20(b); R315-266-22; R315-266-70(d); R315-266-80(b); R315-266-101(c)(2); R315-268-40 last paragraph; R315-268-48 Universal Treatment Standards table; R315-270-4(a).
20. Removal of Saccharin and its Salts from the Lists of Hazardous Wastes (Rule 225; No Federal checklist) | 75 FR 78918; 12/17/10 | R315-261-33(f) and table; R315-261-1092; R315-268-40 table; R315-268-54.
21. Academic Laboratories Generator Standards Technical Correction (Checklist 226) | 75 FR 78918; 12/17/10 | R315-262-200, “central accumulation area”; R315-262-206(b)(3)(i); R315-262-212(e)(1); R315-262-214(a)(1) and (b)(1).
22. Revision of the Land Disposal Treatment Standards for Carbamate Wastes (Checklist 227) | 76 FR34147; 6/13/11 | R315-268-40 last paragraph; R315-268-48 table of UTS-Universal Treatment Standards; R315-268-48 table of UTS-Universal Treatment Standards.
23. Hazardous Waste Technical Corrections and Clarifications Rule (Checklist 228) | 77 FR 22229; 4/13/12 | R315-261-32(a), entry for K107; R315-266-20(b).
24. Conditional Exclusions for Solvent Contaminated Wipes (Checklist 229) | 78 FR 46448; 7/31/13 | R315-260-10(c)(102); R315-260-10(c)(138); R315-260-10(c)(179); R315-261-4(a)(26); R315-261-4(a)(26); R315-261-4(b)(18).
25. Conditional Exclusion for Carbon Dioxide (CO2) Streams in Geologic Sequestration Activities (Checklist 230) | 79 FR 350; 1/3/14 | R315-260-10(c)(16); R315-261-4(h).
26. Hazardous Waste Electronic Manifest Rule (Checklist 231) | 79 FR 7518; 2/7/14 | R315-260-2(a); R315-260-2(b); R315-260-2(c)(1); R315-260-2(c)(2); R315-260-10(c)(43), (c)(44), (c)92, (c)171; R315-262-20(a)(3); R315-262-24, R315-264-24(a), (a)(1), (a)(2), (a)(3), (a)(4); R315-262-24(b); R315-262-24(c); R315-262-24(d) through (f); R315-265-25; R315-263-20(a)(1) through (7); R315-263-25; R315-264-71(a)(2), (f) through (k); R315-265-71(a)(2), (f) through (k).
27. Revisions to the Export Provisions of the Cathode Ray Tube (CRT) Rule (Checklist 232) | 79 FR 36220; 6/26/14 | R315-260-10(c)(30); R315-261-39(a)(5)(i)(F); R315-261-39(a)(5)(x); R315-261-39(a)(5)(xi); R315-261-41.
28. Changes Affecting All Non-Waste Determinations and Variances (Checklist 233A) | 80 FR 1694; 1/13/15 83 FR 24664; 5/30/18 | R315-260-31(c); R315-260-33(c) through (e); R315-260-42.
29. Legitimacy-Related Provisions, Including Prohibition of Sham Recycling, Definition of Legitimacy, Definition of Contained (Checklist 233B) | 80 FR 1694; 1/13/15 83 FR 24664; 5/30/18 | R315-260-10(c)(24) “contained”; R315-260-10(c)(24) “Hazardous secondary material”; R315-260-43; R315-261-2(b)(3) and (b)(4); R315-261-2(g).
30. Speculative Accumulation (Checklist 233C) | 80 FR 1694; 1/13/15 | R315-261-1(c)(8).
31. 2008 DSW Exclusions and Non-Waste Determinations, Including Revisions from 2015 DSW Final Rule and 2018 DSW Final Rule (Checklist 233D2) | 80 FR 1694; 1/13/15 83 FR 24664; 5/30/18 | R315-260-10(c)(55) “facility”; R315-260-10(c)(66) “Hazardous secondary material generator”; R315-260-10(c)(80) “Intermediate facility”; R315-260-10(c)(83) “Land based unit”; R315-260-10(c)(154) “Transfer facility”; R315-260-30(b), 30(d) and (e); R315-260-33 and 33(a); R315-260-34; R315-261-1(c)(4); R315-261-2(c)(3); R315-261-2(c)(4) table 1; R315-261-4(a)(23), (a)(24, (a)(25); R315-261-140 through 151; R315-261-400, 410, 411 and 420; R315-270-42, appendix I.
32. Remanufacturing Exclusion (Checklist 233E) | 80 FR 1694; 1/13/15 | R315-260-10(c)(126); R315-26-2(c)(3); R315-261-2(c)(4) table 1; R315-261-4(a)(27); R315-261-170 through 179; R315-261-190, 191, 193, 194, and 196 through 200; R315-261-1030 through 1035; R315-261-1050 through 1061; R315-261-1080 through 1084, and 1086 through 1089.
33. Response to Vacaturs of the Comparable Fuels Rule and the Gasification Rule (Checklist 234) | 80 FR 18777; 4/8/15 | R315-260-10; R315-261-4(a)(12)(i); R315-261-4(16).
34. Disposal of Coal Combustion Residuals from Electric Utilities (Checklist 235) | 80 FR 21302; 4/17/15 | R315-261-4(b)(4)(i); R315-261-4(b)(4)(ii).
35. Imports and Exports of Hazardous Waste (Checklist 236) | 81 FR 85696; 11/28/16 82 FR 41015; 8/29/17 83 FR 38263; 8/6/18 | R315-260-10(c)(6); R315-260-10(c)(41); R315-260-10(c)(125); R315-260-11(a); R315-261-4(d)(1), (d)(4), (e)(1), (e)(4); R315-261-6(a)(3)(i) and (a)(5); R315-261-39(a)(5)(ii), ((5)(v), (v)(A), (v)(B), (vi), (ix) and (xi); R315-262-10(d); R315-262-18(e); R315-262-41(c); R315-262-80; R315-62-80; R315-262-81; R315-262-82; R315-262-83; R315-262-84; R315-262-217; R315-263-10(d); R315-263-20(a)(2), (c), (e)(2), (f)(2), Note to Subsection R315-263-20(f)(2); R315-263-20(g); R315-264-12(a); R315-264-71(a)(3) and (d); R315-265-12(a); R315-265-71(a)(3) and (d); R315-266-70(b); R315-266-80(a); R315-273-20; R315-273-39(a) and (b); R315-273-40; R315-273-56; R315-273-62(a); R315-273-70(a)-(c).
36. Hazardous Waste Generator Improvements Rule (Checklist 237) | 81 FR 85732; 11/28/16 | R315-260-10(c)(2), (c)(19), (c)(87), (c)(103), (c)(136) and (c)(172); R315-260-11; R315-261-1(a)(1); R315-261-1(c)(6); R315-261-4(a)(7); R315-261-33(e) and (f); R315-261-420(g); R315-262-1; R315-262-10(a), (b), (d), (f), (j), and (l), R315-262-11; R315-262-13 introductory paragraph, (a), (b), (c)(1)-(c)(8) and (d)-(f); R315-262-14; R315-262-15; R315-262-16; R315-262-17; R315-262-18; R315-262-32(b)-(d); R315-262-35; R315-262-40(c); R315-262-41; R315-262-43; R315-262-44 introductory paragraph; R315-262-200(a)(10); R315-262-201(a) and (b); R315-262-202(a) and (b); R315-262-203(a) and (b)(2); R315-262-204(a); R315-262-206(b)(3)(iii); R315-262-207(d)(2); R315-262-208(a) and (d)(2); R315-262-209(b); R315-262-210(a), (b)(3) and (d)(2); R315-262-211(c), (d), (e)(3); R315-262-212(d); R315-262-213(a)(1)-(3) and (b)(2); R315-262-214(b)(5); R315-262-216; R315-262-230 through 233; R315-262-250 through 265; R315-263-12; R315-264-1(g)(1) and (g)(3); R315-264-15(b)(4); R315-264-71(c); R315-264-75; R315-264-170; R315-264-174; R315-264-191(a); R315-264-1030(b)(2); R315-264-1050(b)(3); R315-264-1101(c)(4); R315-265-1(c)(5) and (c)(7); R315-265-15(b)(4); R315-265-71(c); R315-265-75; R315-265-174; R315-265-195(d); R315-265-1030(b)(2) and (b)(3); R315-265-1 intro; R315-265-1101(c)(4); R315-266-80(a); R315-268-1(e)(1); R315-268-7(a)(5); R315-268-50(a)(1) through (2)(i)(D); R315-270-1(c)(2)(i) and (iii); R315-270-42; R315-273-8(a)(2); R315-273-81(b); R315-15-1.1(b)(3).
37. Confidentiality Determinations for Hazardous Waste Export and Import Documents (Checklist 238) | 83 FR 60894; 12/26/17 | R315-260-2(b), (d)(1) and (d)(2); R315-261-39(a)(5)(iv); R315-262-83(b)(5) and (f)(9); R315-262-84(b)(4) and (f)(8).
38. Hazardous Waste Electronic Manifest User Fee Rule (Checklist 239) | 83 FR 420; 1/3/18 | R315-260-4; R315-260-5; R315-262-20(a)(1); R315-262-21(f)(5) through (f)(8); R315-262-24(c), (e), (g) and (h); R315-263-20(a)(9); R315-263-21; R315-264-71(a)(2), (j), (l); R315-264-1086(c)(4)(i), (d)(4)(i), R315-264-71(j)(1) and (2); R315-265-71(a)(2), (j) and (l); R315-265-1087(c)(4)(i), (d)(4)(i); R315-265-71(j)(1) and (2).
39. Safe Management of Recalled Airbags (Checklist 240) | 83 FR 61552; 11/30/18 | R315-260-10(c)(7)-(9); R315-261-4(i) and (j); R315-262-14(a)(5)(ix)-(xi).
40. Management Standards for Hazardous Waste Pharmaceuticals and Amendment to the P075 Listing for Nicotine (Checklist 241) | 84 FR 5816; 2/22/19 | R315-261-4(a)(1)(ii); R315-261-7(c); R315-261-33(c) and (33)(e) table; R315-262-10(n) and (o); R315-262-13(c)(9); R315-262-14(a)(5)(ix) and (x); R315-264-1(g)(13); R315-265-1(c)(16); R315-266-500 through 510; R315-268-7(a); R315-268-50(a)(4) and (a)(5); R315-270-1(c)(2)(ix); R315-273-80(a) and (e).
41. Universal Waste Regulations: Addition of Aerosol Cans (Checklist 242) | 84 FR 67202; 12/9/19 | R315-260-10(c)(5); R315-260-10(c)(165)(iii) through (v); R315-260-10(c)(166)(ii)(A); R315-261-9(c)-(e); R315-264-1(g)(11)(iii)-(v); R315-265-1(c)(14)(iii) through (v); R315-268-1(f)(3) through (f)(5); R315-270-1(c)(2)(viii)(C) through (E); R315-273-1(a)(3) through (5); R315-273-3(b)(2); R315-273-6; R315-273-9(a), (j), (m), (n), (p)(3) through (p)(5) and (q); R315-273-13(c)(2)(iii) and (iv), (f) and (g); R315-273-32(b)(4); R315-273-33(c)(2)(iii) and (iv), (f) and (g).

2. State-Initiated Changes

Utah has made amendments to its regulations that are not directly related to any of the Federal rules addressed in Item G.1 above. These State-initiated changes are: (i) conforming changes made to existing authorized provisions, primarily internal reference citation revisions due to the complete reorganization and renumbering of the State regulations; (ii) amendments that clarify and make the State's regulations internally consistent; and (iii) revisions associated with the modification to the State's approach from an incorporation by reference format to a verbatim format. These State-initiated changes are submitted under the requirements of 40 CFR 271.21(a) and include the following provisions from the UAC, as amended, January 17, 2023:

a. State-initiated changes that are conforming changes made to existing authorized provisions, primarily internal reference citation revisions due to the complete reorganization and renumbering of the State regulations—Chapter R315-15 Standards for Management of Used Oil: R315-15-1.1 introductory paragraph, (a), (b)(1)(i), (b)(1)(ii)(A), (b)(2)(ii) and (iii), (c)(1) introductory paragraph, (c)(1)(ii), (d)(1), (e)(3) introductory paragraph, (e)(3)(ii), (g)(4), (i); 1.3(b); 1.7(a) and (b); 2.3 introductory paragraph and (a); 3.3(a); 4.1(a)(4) and (f) introductory paragraph; 4.2(a); 4.5(d); 4.6 introductory paragraph and (b); 4.7(a)(6)(i) and (b)(5)(i); 5.1(b) introductory paragraph and (b)(3) introductory paragraph; 5.3(a)(4)(ii); 5.4(b)(2); 5.5(a), (f)(1)(i), (f)(1)(ii), (f)(2)(ii); 5.6 introductory paragraph, (a)(2)(i)(A) and (B), (b)(2)(i)(A); 5.7(c); 6.1(a)(3); 6.2(a)(1), (a)(2) introductory paragraph, (a)(3), (b)(1), (c); 6.4(c) introductory paragraph, (d); 6.5(a) introductory paragraph, (e); 7.6(b); 8.2(a); 11.1(a) through (c); 18(a); Chapter R315-124 Procedures for Decision making: R315-124-3(f); 5(a), (c)(1), (c)(2), (c)(3), (d), (e); 6(b), (d)(1) through (5), (e); 7; 8(b)(4), (b)(6)(i); 9, 10(a)(1) and (2), (c) introductory paragraph, (c)(5), (d)(1) introductory paragraph, (d)(2) introductory paragraph, (e); 11; 12(a)(3) and (4), (c); 13; 15; 16; 17(a) introductory paragraph, (b); 18; 31(a), (c), (d)(1)(i) through (iv), (d)(2) introductory paragraph, 32(a) introductory paragraph, (b)(1), (c); 33(a), (b), and (f); Chapter R315-260 Hazardous Waste Management System: R315-260-10(a), (c) introductory paragraph; 20; 21(a), (b) introductory paragraph, (b)(3), (e); 22(m); 23; Chapter R315-261 General Requirements—Identification and Listing of Hazardous Waste: R315-261-1(a) introductory paragraph, (b)(2) introductory paragraph; 2(c) introductory paragraph, (c)(1), except (c)(1)(i), (c)(2), (d)(2) and (3), (e)(1)(iii), (e)(2) introductory paragraph, (e)(2)(iv), (f); 3(a) introductory paragraph, (a)(1), (a)(2)(i), (a)(2)(iv) introductory paragraph, (a)(2)(iv)(C), (a)(2)(iv)(E), (b), (c) introductory paragraph, (c)(2)(i), (c)(2)(ii)(B), (c)(2)(ii)(C)(1) and (2); (c)(2)(ii)(D) and (E), (d)(1) and (2), (f), (g); 4(a) introductory paragraph, (a)(4), (a)(6) and (7), 4(a)(8)(iii), (a)(9)(iii) introductory paragraph, (a)(9)(iii)(D), (a)(10), (a)(17) introductory paragraph, (a)(17)(iii), (a)(17)(iv)(C), (a)(18)(i), (a)(19), (b)(6)(i) introductory paragraph, (b)(6)(ii)(A), (b)(7) introductory paragraph through (ii) introductory paragraph, (b)(7)(iii) introductory paragraph, (b)(8), (b)(10), (b)(11) introductory paragraph and (ii), (c), (d)(2) introductory paragraph, (d)(3), (e)(2) introductory paragraph, (e)(2)(iii) introductory paragraph, (e)(2)(iv), (f) introductory paragraph, (f)(1), (f)(10), (g) introductory paragraph, (g)(1), 8; 9 introductory paragraph through (b); 10(a) introductory paragraph; 11(a)(1), (a)(3) introductory paragraph, (a)(3)(iii) and (xi), (b), (c); 20; 24(a); 30(a) and (b); 33 introductory paragraph through (b), (d); 35(a), (b)(1)(i) through (iii), (b)(4)(i), (c)(12); Chapter R315-262 Hazardous Waste Generator Requirements: R315-262-20(e) introductory paragraph; 23(a)(3), (d) introductory paragraph; 40(a), (b), (d), (e); 44(a) through (c); Chapter R315-263 Standards Applicable to Transporters of Hazardous Waste and Standards Applicable to Emergency Control of Spills for Any Hazardous Waste Handlers: R315-263-10(a) through (c); 20(d)(1) and (2), (e) introductory paragraph, (e)(3) through (e)(5), (f) introductory paragraph, (f)(3)(i) and (ii), (f)(4)(i) and (ii), (h) introductory paragraph, (h)(1); 22(b), (c)(1), and (e); Chapter R315-264 Standards for Owners and Operators of Hazardous Waste Treatment, Storage, and Disposal Facilities: R315-264-1(a), (b), (d), (e), (g) introductory paragraph, (g)(4) through (6), (g)(8)(i) introductory paragraph, (g)(8)(ii) and (iii), (g)(9) and (10), (g)(11)(i) and (ii), (h), (j); 10(a); 14(a)(2), (b) introductory paragraph, (b)(ii), (c); 16(a)(1), (b), (c), (d)(2) through (4); 17(c); 18(a)(1), (b)(2) introductory paragraph; 19(a)(1), (b) introductory paragraph, (b)(3); 19(c)(1)(i) and (iii), (d); 30; 32(d); 34; 50; 52(a), (c), (d); 53(c); 55; 56(g); 74; 77 introductory paragraph, (a) through (c); 90(a)(1) through (2), (b) introductory paragraph, (b)(1), (b)(3) through (5); 90(c) except (c)(1); 90(d) through (f) except (f)(1); 91(a), (b); 94; 93(a), (b) introductory paragraph, (c); 94(a)(3); 95(a); 96(a); 97 introductory paragraph, (h) introductory paragraph, (i) introductory paragraph, (j); 98 introductory paragraph through (b) except (a)(2); 98(c); (f) except (f)(2); 98(g) except (g)(1), (3), (g)(4)(i), (g)(5) introductory paragraph, and (g)(6)(ii) and (iii); 98(h); 99 introductory paragraph, (a) through (d) except (d)(2); 99(h) introductory paragraph, (h)(2)(i) and (ii), (i) introductory paragraph, (i)(1) and (4), (j); 100 introductory paragraph through (f), (h); 101(b), (d); 171; 175(a), (b)(4) and (5), (c) introductory paragraph, (d) introductory paragraph; 177, 178; 179; 221(a) introductory paragraph, (b) introductory paragraph, (c) introductory paragraph, (c)(1)(ii), (c)(2) introductory paragraph, (d) introductory paragraph, (d)(1), (e) introductory paragraph, (e)(2)(i)(A), (f) introductory paragraph, (i); 222(a), (b); 223(a), (b)(6), (c) introductory paragraph; 226(a) introductory paragraph, (d)(1); 227(a) introductory paragraph, (b) introductory paragraph, (c); 227(d) except (d)(2) introductory paragraph, (d)(2)(ii), and (e); 228(a)(1), (b) introductory paragraph, (b)(2) and (3), (c); 229 introductory paragraph, (a)(1) and (2), (b); 230; 231(a) introductory paragraph; 232; 250(a) through (c) introductory paragraph; 251(b) introductory paragraph, (c)(1)(ii), (c)(2) and (3); 251(d) except (d)(2); 251(e) and (f) except (f)(2); 251(k); 254(a) introductory paragraph, (c); 256 introductory paragraph, (a)(1) and (2); 258; 259(a) introductory paragraph; 253(a), (b)(6), (c); 270; 271; 272(c)(1)(i); 273 introductory paragraph, (a) introductory paragraph; 276(a)(1) and (2), (a)(3) introductory paragraph, (a)(4), (b)(2)(iv); 278 introductory paragraph, (a)(1) and (2), (c) introductory paragraph, (c)(3) and (4), (d), (f) introductory paragraph, (f)(1), (g) introductory paragraph, (h) introductory paragraph, (h)(1), (h)(4); 279; 280(a) except (a) introductory paragraph, (a)(6), and (a)(8); 280(b); 280(c) except (c) introductory paragraph through (c)(2); 280(d) introductory paragraph, (d)(1), (d)(1)(ii), (e); 281 introductory paragraph, (a)(1) and (2); 282; 300; 301(a) introductory paragraph, (b) introductory paragraph, (c) introductory paragraph, (c)(1)(ii), (c)(3) introductory paragraph, (d) introductory paragraph, (d)(1), (e) introductory paragraph, (e)(1), (e)(2)(i)(C); 301(f) except (f)(2); 301(k); 303(a) introductory paragraph, (c)(1); 304(a), (b)(6), (c) introductory paragraph; 309 introductory paragraph; 310(b) introductory paragraph, (b)(3) and (4), (b)(6); 312; 313; 316(c) through (f); 317(b); 340(a), (b)(2), (b)(4); 340(c) except (c)(1) introductory paragraph; 340(d), (e); 341; 342; 343 introductory paragraph, (a)(1), (c), (d); 344(a)(1) and (2), (c)(2); 345(a), (b) introductory paragraph, (b)(6), (c), (e); 347(a)(2) and (3); 351; Chapter R315-265 Interim Status Standards for Owners and Operators of Hazardous Waste Treatment, Storage, and Disposal Facilities: R315-265-1(a) through (c) introductory paragraph, (c)(3), (c)(8) through (10); (c)(11) except (i)(A) through (C) and (iv); (c)(12), (c)(13), (c)(14) introductory paragraph through (c)(14)(ii); (d) introductory paragraph, (e); 3; 4; 10; 12(b), 12(b) Comment; 14(a)(2), (b) introductory paragraph, (b)(2)(ii) Comment, 14(c), 14(c) Comment; 16(a)(1), (c), (d)(2) through (4); 17(b) introductory paragraph; 19(a)(1), 19(b) introductory paragraph, (b)(3), (c)(1)(i) and (iii), (d); 30; 34, 50; 52(a), (c), (d); 55; 56(g) Comment; 71(b)(2); 74; 77 introductory paragraph through (d); 90(a) through (c) introductory paragraph, (d)(2), (d)(4), (d)(5), (e); (f) except (f)(1); 91(a)(3)(iv); 92(b) introductory paragraph, (b)(1), (b)(2)(vi) Comment, (c); 92(d) except (d) introductory paragraph; 93(a) introductory paragraph, (b) through (d)(1), 93(d)(3) introductory paragraph, (d)(4) introductory paragraph, (d)(6) through (f); 94(a) introductory paragraph, (a)(1), (a)(2)(i) through (iii); 94(b) except (b)(2); 170; 171; 176; 177(a), (b); 178; 220; 221(b), (c) introductory paragraph, (c)(1), (d) introductory paragraph, (d)(1), (d)(2)(i)(C), (e), (f), (h); 222; 225(a) introductory paragraph, (a)(2)(ii); 226(a)(1), (b)(1), (b)(3), 226(b)(3) Comment; 229 introductory paragraph, (a)(1); 230; 231; 250; 252, 252 Comment; 254; 255 except (b); 256(a) introductory paragraph, (a)(1); 257 except (b) and Comment; 258; 259(b)(6), (c) introductory paragraph; 260; Chapter R315-270 Hazardous Waste Permit Program: R315-270-1(a), (b)(1) through (b)(3), (c) introductory paragraph, third through sixth sentences, (c)(1), (c)(2)(ii), (c)(2)(iv) through (vii), (c)(5) through (7); 10(a), (c)(1), (e) introductory paragraph, (e)(1) introductory paragraph, (e)(1)(i) and (ii), (e)(4) and (5), (f)(1) through (3), (g)(1)(i), (g)(1)(iii), (g)(2), (h)(2), (i), (j)(1)(ii), (k); 11(b) introductory paragraph, (b)(1), (c); 12; 13(a), (j); 14(b) introductory paragraph; (b)(2) through (7), (b)(9), (b)(11)(i) and (ii) introductory paragraph; 14(b)(11)(iv)(C) except (C)(I) and (C)(III); 14(b)(11)(v), (b)(12), (b)(13) through (18); (b)(20), (b)(22); 14(c) introductory paragraph through (c)(4)(ii) except (c)(2) and (c)(4) introductory paragraph; 14(c)(5), (c)(6) introductory paragraph, (c)(7) introductory paragraph, (c)(7)(iii), (c)(8) introductory paragraph, (c)(8)(ii), (c)(8)(v), (d)(1)(i); 15 introductory paragraph, (a) introductory paragraph, (b) introductory paragraph, (c) through (e); 17 introductory paragraph, (b) introductory paragraph, (b)(1) and (2), (b)(4) and (5), (c); 17(e) through (h) except (f); 17(i), (j); 18 introductory paragraph, (c) introductory paragraph, (c)(1)(i), (c)(1)(iv) and (v), (d), (f) through (i) introductory paragraph; 19 introductory paragraph through (b), (c)(1)(v), (c)(3), (c)(5)(i), (c)(6) introductory paragraph and (ix), (c)(7) and (8); 19(d)(2); 20 introductory paragraph, (a) introductory paragraph, (b) introductory paragraph, (b)(2) introductory paragraph, (b)(3)(vii), (b)(4), (c) introductory paragraph, (c)(5), (d) introductory paragraph, (e) through (h), (i) introductory paragraph; 21 introductory paragraph, (b) introductory paragraph through (b)(1)(v) except (b)(1)(iii); 21(c) through (j) introductory paragraph; 23 introductory paragraph, (a)(2) through (b), (e); 28; 29; 30(a), (i)(4), (j)(2), (k), (l)(2) introductory paragraph, (l)(2)(ii)(B), (l)(3), (l)(4), (l)(6) introductory paragraph, (l)(7) through (10), (m); 31(c); 32(a), (b)(1), (b)(2), (d); 33(a) introductory paragraph, (a)(1), (a)(2) introductory paragraph; 40(a); 41 introductory paragraph, (a)(5), (b)(2); 43(b); 50(b), (c), (d); 51(a)(1) through (b), 51(c)(2) and (3); 60 introductory paragraph, (b)(1), (b)(2); (b)(3)(i) and (ii); (c)(3)(i) through (vii); 61(a) introductory paragraph, (b)(6); 62(a) introductory paragraph through (b)(1); (b)(2)(iv) and (viii), (b)(3) and(4), (b)(5)(i), (b)(5)(iii), (b)(5)(iv), (b)(6) introductory paragraph, (b)(7)(iv) through (vi), (b)(7)(x), (b)(8), (b)(10), (b)(11), (c), (d); 63(a) through (d) introductory paragraph except (a)(1); 63(d)(1) and (2); 65(a) introductory paragraph, (a)(1), (b), (d); 70(a)(1) and (2), (b), (c); 71(b); 72(a) introductory paragraph, (a)(4) and (5), 72(b) introductory paragraph through (b)(2), (b)(5) through (b)(8); 73(a), (b), (d) introductory paragraph, (e); 235(a)(1)(i)(A), (a)(1)(ii)(B)(II)(IIii), (a)(1)(iii)(A) and (B), (a)(2)(i)(A)(I), (a)(2)(ii)(B)(II)(IIii), (a)(2)(iii)(A) and (B), (b)(1)(i) and (ii); Chapter R315-273 Standards for Universal Waste Management: R315-273-1(a) introductory paragraph through (a)(2), 1(b); 2(a) and (b); 3(a) introductory paragraph, (a)(1)(i); 3(b) except (b)(2); 3(c)(1) introductory paragraph, (c)(2), (d); 5 except (c); 8 except (a)(2); 9(e) “Destination Facility”, (h) “Generator”, (o) “Thermostat”; 10; 11(b); 13(a)(3) introductory paragraph, (a)(3)(i), (b)(2), (b)(3); 14 introductory paragraph, (b) introductory paragraph, (c) introductory paragraph, (c)(1)(iii); 15(a); 17(b); 18(b), 30; 31(b); 32(a)(3); 33(a)(3) introductory paragraph, (a)(3)(i), (b)(2), (b)(3); 34 introductory paragraph, (b) introductory paragraph, (c)(1)(ii) and (iii); 35(a); 37(b); 38(b); 39(c)(1) and (2); 50; 51(b); 52(a); 53(b); 54(b); 60(a),(b); 62(b); 80(b), (c); 81(a),(e),(f),(g).

b. State-initiated changes that are amendments that clarify and make the State's regulations internally consistent—Chapter R315-15 Standards For Management of Used Oil: R315-15-1.3 introductory paragraph, (a), (d); 1.5(a) through (b)(1); 1.6; 1.7(c) through (h); 2.1(a)(1), 2.2(b); 2.3 introductory paragraph, (b)(2) through (4); 2.4 introductory paragraph, (a) introductory paragraph, (a)(3) through (a)(5), (b); 2.5 introductory paragraph, (a) introductory paragraph, (b) introductory paragraph, (b)(3), (c) introductory paragraph; 3.1(a), (a)(1), (a)(2), (b) introductory paragraph, (b)(2), (b)(3) introductory paragraph, (b)(3)(i) through (iv), (b)(4), (c); 3.2(a) introductory paragraph, (a)(1), (a)(2), (b) introductory paragraph, (b)(2), (b)(3); 4.1(a) introductory paragraph; 4.4(d); 4.5(b)(2); 4.6(c) introductory paragraph, (c)(3) and (4), (d), (d)(1)(iii), (d)(3) through (6); 4.7(a) introductory paragraph, (a)(1), (a)(3), (b) introductory paragraph, (c) and (d); 5.3(a)(1), (a)(2) introductory paragraph, (a)(3), (b)(1)(i), (b)(2)(i), (v) and (vi); 5.5(b) introductory paragraph, (b)(3), (c) introductory paragraph, (c)(1)(iii), (c)(3) through (5); 5.6(a)(1); 5.7(a) introductory paragraph, (a)(7), 6.1(a) introductory paragraph, (b) introductory paragraph, (b)(6) through (8), (d); 6.4(b)(2); 6.5(b), (c) introductory paragraph, (c)(1) introductory paragraph, (c)(1)(iii), (c)(3) and (4); 6.6(a)(7); 6.7(b); 6.8; 7.6(a) introductory paragraph, (a)(2); 8.2(b); 9.1(a)(1) through (4), (d) and (e); 9.2; 9.3; 11.3(a) introductory paragraph and (a)(1); 11.4(a); Chapter R315-124 Procedures for Decision making: R315-124-1; 3(a), (c), (d). (e), (g) introductory paragraph, (g)(4); 6(a), (d) introductory paragraph; 8(a), (b)(5), (b)(6) intro.; 10(a)(3), (b)(1), (b)(2) introductory paragraph, (c)(1) introductory paragraph, (c)(1)(ii), (c)(1)(iii), (c)(1)(ix)(B) and (C), (c)(2)(ii), (d) introductory paragraph, (d)(1)(i), (d)(1)(ii) through (v), (d)(2)(i); 12(a)(1) and (2), (b), (d); 17(a)(1) and (2); 19(a); 20; 31(b); 32(b)(2)(ii) through (iv); Chapter R315-260 Hazardous Waste Management System: R315-260-1; 3; 10(c)(165) “Universal waste” (vi); 19; Chapter R315-261 General Requirements—Identification and Listing of Hazardous Waste: R315-261-1(a)(2) through (4); 4(a)(8) introductory paragraph, (a)(9)(iii)(A) through (C), (a)(14)(i), (e)(1)(i), (e)(2)(i) and (ii), (g)(2)(i); 9(f); 31(a) table 2, F999 entry; Chapter R315-262 Hazardous Waste Generator Requirements: R315-262-23(c); 30; and 32(a); Chapter R315-263 Standards Applicable to Transporters of Hazardous Waste and Standards Applicable to Emergency Control of Spills for Any Hazardous Waste Handlers: R315-263-11; 20(b), (h)(2)(iii), (h)(4); 21(a)(1), (a)(2) (a)(4); 22(c) introductory paragraph, (c)(2); 30 through 33; Chapter R315-264 Standards for Owners and Operators of Hazardous Waste Treatment, Storage, and Disposal Facilities: R315-264-1(g)(8)(i)(C); 11; 1314(a) introductory paragraph; 15(a) through (b)(2), (c), (d); 16(a)(3) introductory paragraph, (a)(3)(i), (d) introductory paragraph, (e); 18(a)(2) except (a)(2)(iii); 18(b)(1)(i); 31; 32 except (d); 35; 37(a)(1) and (2); 51; 52(e), (f); 53(b); 54; 56(a)(2); 56(b) through (f) except (d)(2) introductory paragraph through (d)(2)(ii); 56(d)(2)(v) and (vi); 90(b)(2) introductory paragraph; 94(a)(1), (a)(2) table; 97(g) introductory paragraph, (g)(2); 98(f)(2), (g)(6)(iii); 99(d)(2), (i)(3); 101(a); 220; 221(c)(2)(v); 226(c) introductory paragraph; 227(d)(2)(ii); 251(a)(2) introductory paragraph; 256(b); 257 except (b); 272(b), (c) introductory paragraph, (c)(2); 276 introductory paragraph, (b)(1)(ii), (f)(2), (f)(3) introductory paragraph, (g)(1) and (2), (h)(2) and (3); 281(b); 283(b); 301(a)(1) introductory paragraph, (a)(2) introductory paragraph, (c)(1)(i)(B), (c)(3)(ii), (e)(2)(i)(A); 345(d)(3), (f); 347(a)(1), (c); Chapter R315-265 Interim Status Standards for Owners and Operators of Hazardous Waste Treatment, Storage, and Disposal Facilities: R315-265-1(c)(1), (c)(11)(iv); 11; 14(a) except (a)(2); 14(b)(2)(i) and (ii); 15(a), (b)(1) and (2), (d); 16(a)(3)(iii); 32 introductory paragraph through (b); 33; 35; 51(a); 52(e), (f); 53(b); 54; 56(d) introductory paragraph, (d)(1), (d)(2)(iii) and (iv), (e) through (h) except (h)(2); 71(b) introductory paragraph, (b)(2) Comment, (b)(4) Comment, (b)(5); 92(a)(4), (a)(4) Comment; (b)(2)(vi); 94(a)(2) introductory paragraph, (b)(2); 172 and 173 except 173(a); 177(c); 221(g); 225(a)(2)(ii) Comment; 229(b) except (b)(3); 253 Comment; 256(a)(2); 257(b), 257(b) Comment; and 259(b)(2); 42(b) and (b) Note; Chapter R315-270 Hazardous Waste Permit Program: R315-270-1(c) introductory paragraph, first 2 sentences, (c)(2)(viii) introductory paragraph, (c)(4); 10(b), (d), (e)(1)(iii), (e)(3), (g) introductory paragraph, (g)(1) introductory paragraph, (g)(1)(ii), (h) introductory paragraph, (h)(1); 13 introductory paragraph and (b); 14(b)(11)(iii), (b)(19) introductory paragraph, (b)(19)(xii), (c)(8)(iv), (d)(1) intro; 17(d); 30 introductory paragraph, (b), (d), (f) through (i)(3), (l)(2)(i) and (ii)(A), (l)(5), (l)(6)(i)(B), (l)(11); 31 introductory paragraph; 32(e); 33(a)(2)(ii), (a)(3), (b)(1) and (2), (b)(3)(iv); 41(a) introductory paragraph through (a)(3), (b) introductory paragraph; 43(a); 50(a); 51(a) introductory paragraph, (c) introductory paragraph and (1), (d); 62(b)(2)(ii) introductory paragraph, (b)(6)(ii)(B); 63(a)(1); 65(c); 68; 71(a)(1) through (3); 72(a)(1), (a)(3) introductory paragraph; 73(c)(1), (d)(1), (f), (g); Chapter R315-273 Standards for Universal Waste Management: R315-273-1 Note; 9(c) “Antifreeze”, (f) “Drum-top Lamp Crusher”, (l) “On-site”, (p) Universal Waste” (6); 12; 14(b)(2), (c)(2); 18(g); 32(a)(1) and (2); 34(b)(2), (c)(2); 35(c)(2); 38(g); 61(c); 80(d);

c. State-initiated changes that are revisions associated with the modification to the State's approach from an incorporation by reference format to a verbatim format—Chapter R315-260 Hazardous Waste Management System: R315-260-10(c)(1) “Above ground tank”, (c)(3) “Active life”, (c)(4) “Active portion”, (c)(10) “Approved hazardous waste management facility” through (c)(15) “Boiler”, (c)(17) “Carbon regeneration unit”, (c)(20) “Certification” through (c)(23) “Confined aquifer”, (c)(25) “Container” through (c)(28) “Corrosion expert”, (c)(34) “Destination Facility” through (c)(40) “Drip pad”, (c)(42) “Elementary neutralization unit”, (c)(45) “EPA hazardous waste number” through (c)(51) “Existing tank system” or “Existing component”, (c)(56) “Federal agency” through (c)(64) “Hazard class”, (c)(67) “Hazardous waste constituent” through (c)(79) “Installation inspector” except (c)(72)(iii), (c)(81) “International shipment”, (c)(82) “Lamp”, (c)(84) “Landfill” through (c)(86) “Land treatment facility”, (c)(88) “Leachate” through (c)(91) “Management” or “Hazardous waste management”, (c)(96) “Mining overburden returned to the mine site” through (c)(99) “Movement”, (c)(101) “New tank system”, (c)(104) “On ground tank” through (c)(114) “Person”, (c)(116) “Pesticide” through (c)(123) “Qualified ground water scientist”, (c)(124) “RCRA”, (c)(127) “Remediation waste” through (c)(135) “Sludge dryer”, (c)(137) “Solid waste management unit”, (c)(139) “Sorbent” through (c)(153) “Totally enclosed treatment facility”, (c)(155) “Transport vehicle” through (c)(165) “Universal waste” (i), (c)(166) “Universal waste handler” except (ii)(A), (c)(167) “Universal waste transporter” through (c)(169) “Uppermost aquifer”, (c)(173) “Vessel” through (c)(178) “Well injection”, (c)(180) “Zone of engineering control”; 22(a) through (e) except (a)(1), (d)(1)(i), and (d)(1)(ii); 22(h) through (l); 30(a) and (c); 31(a) through (b)(1); 32; 33(b); 40(a)(1) through (5); 41(a) and (b); Chapter R315-261 General Requirements—Identification and Listing of Hazardous Waste: R315-261-1(c)(1) through (3), (c)(5), (c)(7), (c)(9); 6(a)(1); 6(a)(3) except (a)(3) introductory paragraph and (a)(3)(i); (6)(a)(4), (b), (c)(2)(i) through (iii); 24(b); 31(b) introductory paragraph through (b)(3); Chapter R315-264 Standards for Owners and Operators of Hazardous Waste Treatment, Storage, and Disposal Facilities: R315-264-13 except (b)(7)(iii)(B); 110; 111 except (c); 112 except (b)(8); 113 except (e)(5); 114; 117 through 119 except 118(c) and 119(b)(1)(ii); 140 except (d)(1); 141; 142 except (b)(2); 143 except (b)(7), (b)(8), (e)(5), and (i); 144; 145 except (a)(3)(i), (d)(6), and (f)(11); 146; 148; 147 except (e) and (h)(i); 151 except (b), (f), (g), (h)(2) through (m)(1), and (n)(1); 190 except (a); 191(b) through (d) except (b)(5)(ii); 192 except (a) introductory paragraph and (b) introductory paragraph; 193(c) except (c)(4); 193(e) except (e)(2(ii), (e)(2)(v)(A), (e)(2)(v)(B), (e)(3)(i), and (e)(3)(ii); 193(f) through (h) except (g)(1)(iii), (g)(1)(iv), and (g)(2)(i)(A); 193(i) except (i)(2); 194; 195(a); 196 except (f); 197 through 200; 550; 551; 552 except (a)(3)(ii) through (iv), (e)(4)(iii), (e)(4)(iv)(F), (e)(6)(iii)(E); 553 except (e) introductory paragraph; 554 except (a) introductory paragraph and (c)(2); 554 except (a) introductory paragraph and (c)(2); 555 except (a)(3) and (e)(6); 570; 571 except (a) through (c); 572; 573(a) except (a)(1), (a)(4)(i), (a)(4)(ii), and (a)(5); 573(c) through (d), (h) through (l), (m)(2), (m)(3), (n) and (o); 574 except (a); 575; 601 except (a), (b)(11), and (c)(4); 602; 603; 1030 except (b)(2) and (c); 1031 through 1033 except 1033(f)(2)(vii)(B); 1034 except (b)(2), (c)(1)(ii), (c)(1)(iv) introductory paragraph, (c)(1)(iv)(A), (c)(i)(iv)(B), (d)(1)(iii), and (f); 1036; 1050 except (b)(3), (f), and (h); 1051 through 1057; 1058 except (c)(1); 1059; 1060; 1061 except (b)(1), (b)(2), and (d); 1062 except (a) introductory paragraph and (b)(2); 1063 except (d)(2); 1064 except (c)(3); 1065; 1080 except (a) and (c); 1081; 1085; 1086 except (c)(4)(i) and (d)(4)(i); 1087; 1089; 1090 except (c); 1100(a) through (e); 1101(a) and (b) except (b)(3)(iii); 1101(c) except (c)(2), (c)(3) introductory paragraph, (c)(3)(i), and (c)(4); 1101(d)(1) through (3), (e); 1102(b); 1103 through 1106; Chapter R315-265 Interim Status Standards for Owners and Operators of Hazardous Waste Treatment, Storage, and Disposal Facilities: R315-265-13; 73 except (b) introductory paragraph, (b)(1), (b)(6) through (b)(8) and (b)(15); 110 except (b)(4); 111 except (c); 112 except (b)(5) and (d)(4); 113 except (b), (e)(4) and (e)(5); 114; 116; 117 except (b); 118; 119 except (b)(1)(ii); 121; 140 except (b) introductory paragraph and (b)(2); 141; 142 except (a) introductory paragraph; 143 except (h); 144; 145 except (e)(11) and (h); 146; 147 except (a)(1)(i), (b)(1)(i), and (e); 148; 190 except (a); 191 except (a) and (b)(5)(ii); 192 except (a) introductory paragraph and (b) introductory paragraph; 193 except (a)(1), (a)(2), (e)(2)(v)(A), (e)(2)(v)(B), and (i)(2); 194 except (b)(1) and (b)(2); 196 except (f); 197 except (b); 198 through 200; 202; 228 except (a)(2)(iii)(D) and (b)(2); 1030 except (b)(2) and (3); 1031 and 1032; 1033 except (f)(2)(ii); 1034 except (c)(1)(ii), (c)(1)(iv), (d)(1)(iii), and (f); 1035 except (b)(2) introductory paragraph, (b)(2)(i), and (c)(4)(i); 1080 except (a); 1081 except “Waste stabilization process”; 1082; 1083; 1084(a) except (a)(3)(ii)(C), (a)(3)(iii), (b)(3)(ii)(C), (b)(3)(iii), and (c)(3)(i); 1085 except (h)(3) introductory paragraph; 1086; 1087 except (b)(1) introductory paragraph, (c)(4)(i), and (d)(4)(i); 1088; 1089; 1090 except (f)(1); 1100 except introductory paragraph and (d); 1101(a) and (b) except (b)(3)(i)(B) and (b)(3)(iii); 1101(c) except (c)(2), (c)(3) introductory paragraph, and (c)(4); 1101(d)(1) through (e); 1102; Chapter R315-266 Standards For the Management Of Specific Hazardous Wastes and Specific Types Of Hazardous Waste Management Facilities: R315-266-20(a); 21; 70(c); 80(b)(1) and (2); 100(a); 100(b) through (c) except (b)(1), (b)(2)(iv), (b)(3) introductory paragraph through (b)(3)(iii), and (b)(4); 100(d) through (f) except (d)(1)(ii) and (d)(3)(i)(A); 100(g) except (g)introductory paragraph and (g)(2), 100(h); 101 except (c)(1) and (c)(2); 102(a) through (d) except (a)(2)(vi) and (b)(1); 102(e) except (e)(3)(i)(E), (e)(5)(i)(C), (e)(6)(ii)(B), (e)(8)(iii), and (e)(10); 103(a) through (c) except (a)(4)(vii), (b)(2)(v)(B)(2), (b)(5)(ii)(A), (b)(6)(viii)(A), (c)(1)(i), (c)(1)(ii)(A)(2), (c)(1)(ix) introductory paragraph, (c)(1)(ix)(A), and (c)(4)(iv)(C)(1); 103(e) through (j) except (g)(1)(i); 103(l); 104; 105; 106 except (a) and (d)(1); 107; 108; 109 except (a)(2)(ii) and (b) introductory paragraph; 110; 111; 112 except (b)(1) introductory paragraph, (b)(2)(i), and (b)(2)(i) Note; Chapter R315-268 Land Disposal Restrictions: R315-268-1 except (e)(1) and (f)(3) through (f)(5); 2 except (g); (3); 4 except (a)(3); (5); 6 except (c)(5); 7(a) except (a) introductory paragraph, (a)(1) introductory paragraph, (a)(2) introductory paragraph, (a)(3)(ii), (a)(4), and (a)(5) introductory paragraph; 7(b) except (b)(3)(ii), (b)(4)(ii), and (b)(6); 7(c) through (e) except (c)(2) and (d) introductory paragraph through (d)(3) introductory paragraph; 9 except (a) and (d) introductory paragraph; 13; 14(a); 30; 31; 33(a) through (d); 34; 35(a) through (c); 36(a) through (c); 37 through 39; 40 except (b), (g), (i), and table; 41; 42 except (a) table; 43; 44; 45(a) through (c)(5); 46; 48(a); 49 except (d); 50(a) except (a)(1), (a)(2)(i)(A) through (D), (a)(4), and (a)(5); 50(b) through (f) except (c); 52; 53; 57; Chapter R315-270 R315-270-16 except (a); 22 except introductory paragraph and (a)(2)(ii)(B); 24 except (d)(3); 25 except (e)(3); 26 except (c)(15); 27; 42 except (d)(2)(i), (i), (j)(1) through (j)(3), (k) and appendix I; 66(a) through (c) except (c)(2)(i) and (ii); 66(d) through (g); 230.

H. Where are the revised State rules different from the Federal rules?

The Utah revisions being authorized in this rule include provisions that contain purely Federal functions which are not delegable to States. The non-delegable Federal program areas include import/export requirements reserved as part of the Federal foreign relations function, and manifest registry and electronic manifest functions administered solely by the EPA. Utah has appropriately adopted these provisions by leaving the authority with the EPA for implementation and enforcement. We consider the following State requirement to be more stringent than the Federal requirement: R315-261-420(f)(4)(ii) because the State requires that notification also be given to the Utah Department of Environmental Quality as well as the Federal entities. Utah did not change any previously more stringent or broader-in-scope provisions to be equivalent to the Federal rules.

I. Who handles permits after the authorization takes effect?

The State of Utah will continue to issue permits for all the provisions for which it is authorized and will administer the permits it issues. The EPA will continue to administer any RCRA hazardous waste permits or portions of permits which we issued prior to the effective date of this authorization, until Utah has equivalent instruments in place. The EPA will continue to implement and issue permits for HSWA requirements for which Utah is not yet authorized.

J. How does today's action affect Indian country (18 U.S.C. 1151) in Utah?

Utah is not authorized to carry out its hazardous waste program in Indian country, as defined in 18 U.S.C. 1151. This includes, but is not limited to:

1. Lands within the exterior boundaries of the following Indian Reservations located within or abutting the State of Utah:

a. Northwestern Band of the Shoshone Nation

b. Paiute Indian Tribe (Cedar Band of Paiutes, Kanosh Band of Paiutes Koosharem Band of Paiutes, Indian Peaks Band of Paiutes, and Shivwits Band of Paiutes)

c. Skull Valley Band of Goshute Indiana

d. Ute Indian Tribe of the Uintah and Ouray Reservation

2. Any land held in trust by the U.S. for an Indian Tribe; and

3. Any other land, whether on or off a reservation, that qualifies as Indian country within the meaning of 18 U.S.C. 1151.

Therefore, this program revision does not extend to Indian country where the EPA will continue to implement and administer the RCRA program.

II. Incorporation by Reference

A. What is codification?

Codification is the process of including the statutes and regulations that comprise the State's authorized hazardous waste management program into the CFR. Section 3006(b) of RCRA, as amended, allows the Environmental Protection Agency (EPA) to authorize State hazardous waste management programs. The State regulations authorized by EPA supplant the Federal regulations concerning the same matter with the result that after authorization the EPA enforces the authorized regulations. Infrequently, State statutory language which acts to regulate a matter is also authorized by the EPA with the consequence that the EPA enforces the authorized statutory provision. The EPA does not authorize State enforcement authorities and does not authorize State procedural requirements. The EPA codifies the authorized State program in 40 CFR part 272 and incorporates by reference State statutes and regulations that make up the approved program, which is federally enforceable in accordance with sections 3007, 3008, 3013, and 7003 of RCRA, 42 U.S.C. 6927, 6928, 6934 and 6973, and any other applicable statutory and regulatory provisions.

B. What is the history of the codification of Utah's hazardous waste management program?

The EPA incorporated by reference Utah's authorized hazardous waste program effective November 26, 2001 (66 FR 58964). In this action, the EPA is revising subpart TT of 40 CFR part 272 to include the authorization revision actions described in this document.

C. What codification decisions have we made in this rule?

In this rule, the EPA is finalizing regulatory text that includes incorporation by reference of the authorized hazardous waste management program of the State of Utah. In accordance with requirements of 1 CFR 51.5, the EPA is finalizing the incorporation by reference of the Utah rules described in section I.G. of this document and set forth below in the amendments to § 272.2251. The EPA has made, and will continue to make, these documents available electronically through https://www.regulations.gov. For alternative access to docket materials, please contact the person identified in the ADDRESSES section of this preamble.

This action codifies EPA's authorization of Utah's base hazardous waste management program and its revisions to that program. The codification reflects the State program that is in effect at the time the EPA's authorized revisions to the Utah hazardous waste management program addressed in this direct final rule become final. This action does not reopen any decision the EPA previously made concerning the authorization of the State's hazardous waste management program. The EPA is not requesting comments on its decisions published in the Federal Register in the final rules referenced in section I.F. of this document concerning revisions to the authorized program in Utah.

The EPA is incorporating by reference the EPA's approval of Utah's hazardous waste management program by amending subpart TT to 40 CFR part 272. The action amends § 272.2251 and incorporates by reference Utah's authorized hazardous waste regulations, as amended effective April 19, 2021. Section 272.2251 also references the demonstration of adequate enforcement authority, including procedural and enforcement provisions, which provide the legal basis for the State's implementation of the hazardous waste management program. In addition, § 272.2251 references the Memorandum of Agreement, the Attorney General's Statements, and the Program Description, which are evaluated as part of the approval process of the hazardous waste management program in accordance with subtitle C of RCRA.

D. What is the effect of Utah's codification on enforcement?

The EPA retains the authority under statutory provisions, including but not limited to, RCRA sections 3007, 3008, 3013 and 7003, and other applicable statutory and regulatory provisions to undertake inspections and enforcement actions and to issue orders in all authorized States. With respect to enforcement actions, the EPA will rely on Federal sanctions, Federal inspection authorities, and Federal procedures rather than the State analogs to these provisions. Therefore, the EPA is not incorporating by reference Utah's inspection and enforcement authorities, nor are those authorities part of Utah's approved State program which operates in lieu of the Federal program. 40 CFR 272.2251(c)(2) lists these authorities for informational purposes, and because the EPA also considered them in determining the adequacy of Utah's procedural and enforcement authorities. Utah's authority to inspect and enforce the State's hazardous waste management program requirements continues to operate independently under State law.

E. What State provisions are not part of the codification?

The public is reminded that some provisions of Utah's hazardous waste management program are not part of the federally authorized State program. These non-authorized provisions include:

1. Provisions that are not part of the RCRA subtitle C program because they are “broader in scope” than RCRA subtitle C (see 40 CFR 271.1(i));

2. State procedural and enforcement authorities which are necessary to establish the ability of the State's program to enforce compliance but which do not supplant the Federal statutory enforcement and procedural authorities.

State provisions that are “broader in scope” than the Federal program are not incorporated by reference in 40 CFR part 272. For reference and clarity, the EPA lists in 40 CFR 272.2251(c)(3) the Utah statutory provisions which are “broader in scope” than the Federal program and which are not part of the authorized program being incorporated by reference. While “broader in scope” provisions are not part of the authorized program and cannot be enforced by the EPA, the State may enforce such provisions under State law.

F. What will be the effect of codification on Federal HSWA requirements?

With respect to any requirement(s) pursuant to HSWA for which the State has not yet been authorized, and which the EPA has identified as taking effect immediately in States with authorized hazardous waste management programs, the EPA will enforce those Federal HSWA standards until the State is authorized for those provisions.

The codification does not affect Federal HSWA requirements for which the State is not authorized. The EPA has authority to implement HSWA requirements in all States, including States with authorized hazardous waste management programs, until the States become authorized for such requirements or prohibitions, unless the EPA has identified the HSWA requirement(s) as an optional or as a less stringent requirement of the Federal program. A HSWA requirement or prohibition, unless identified by the EPA as optional or as less stringent, supersedes any less stringent or inconsistent State provision which may have been previously authorized by EPA (50 FR 28702, July 15, 1985).

Some existing State requirements may be similar to the HSWA requirements implemented by the EPA. However, until the EPA authorizes those State requirements, the EPA enforces the HSWA requirements and not the State analogs.

III. Administrative Requirements

The Office of Management and Budget (OMB) has exempted this action from the requirements of Executive Orders 12866 (58 FR 51735, October 4, 1993) and 13563 (76 FR 3821, January 21, 2011). Therefore, this action is not subject to review by OMB. This action authorizes and codifies State requirements for the purpose of RCRA 3006 and imposes no additional requirements beyond those imposed by State law. Accordingly, I certify that this action will not have a significant economic impact on a substantial number of small entities under the Regulatory Flexibility Act (5 U.S.C. 601 et seq.). Because this action authorizes and codifies pre-existing requirements under State law and does not impose any additional enforceable duty beyond that required by State law, it does not contain any unfunded mandate or significantly or uniquely affect small governments, as described in the Unfunded Mandates Reform Act of 1995 (Pub. L. 104-4). For the same reason, this action also does not significantly or uniquely affect the communities of Tribal governments, as specified by Executive Order 13175 (65 FR 67249, November 9, 2000). This action will not have substantial direct effects on the States, on the relationship between the national government and the States, or on the distribution of power and responsibilities among the various levels of government, as specified in Executive Order 13132 (64 FR 43255, August 10, 1999), because it merely authorizes and codifies State requirements as part of the State RCRA hazardous waste program without altering the relationship or the distribution of power and responsibilities established by RCRA.

This action also is not subject to Executive Order 13045 (62 FR 19885, April 23, 1997), because it is not economically significant, and it does not make decisions based on environmental health or safety risks. This rule is not subject to Executive Order 13211, “Actions Concerning Regulations That Significantly Affect Energy Supply, Distribution, or Use” (66 FR 28355, May 22, 2001), because it is not a significant regulatory action under Executive Order 12866.

Under RCRA 3006(b), the EPA grants a State's application for authorization as long as the State meets the criteria required by RCRA. It would thus be inconsistent with applicable law for the EPA, when it reviews a State authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, Feb. 7, 1996), in issuing this rule, the EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. Because this rule authorizes pre-existing State rules which are at least equivalent to, and no less stringent than existing Federal requirements, and imposes no additional requirements beyond those imposed by State law, and there are no anticipated significant adverse human health or environmental effects, the rule is not subject to Executive Order 12898.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective February 21, 2025.

List of Subjects

40 CFR Part 271

Environmental protection, Administrative practice and procedure, Confidential business information, Hazardous waste, Hazardous waste transportation, Indian lands, Intergovernmental relations, Penalties, Reporting and recordkeeping requirements.

40 CFR Part 272

Environmental protection, Hazardous materials transportation, Hazardous waste, Incorporation by reference, Intergovernmental relations, Water pollution control, Water supply.

Authority: This rule is issued under the authority of sections 2002(a), 3006 and 7004(b) of the Solid Waste Disposal Act as amended, 42 U.S.C. 6912(a), 6926, 6974(b).

Dated: December 11, 2024.
KC Becker,
Regional Administrator, Region 8.

For the reasons set forth in the preamble, under the authority at 42 U.S.C. 6912(a), 6926, and 6974(b), the EPA is granting final authorization under 40 CFR part 271 to the State of Utah for revisions to its hazardous waste program under the Resource Conservation and Recovery Act and is amending 40 CFR part 272 as follows:

PART 272—APPROVED STATE HAZARDOUS WASTE MANAGEMENT PROGRAMS

1. The authority citation for part 272 continues to read as follows:

Authority: Secs. 2002(a), 3006, and 7004(b) of the Solid Waste Disposal Act, as amended by the Resource Conservation and Recovery Act, as amended, 42 U.S.C. 6912(a), 6926, and 6974(b).

Subpart TT—Utah

2. Revise § 272.2251 to read as follows:

§ 272.2251 Utah State-Administered program: Final authorization.

(a) History of the State of Utah authorization. Pursuant to section 3006(b) of RCRA, 42 U.S.C. 6926(b), Utah has final authorization for the following elements as submitted to EPA in Utah's base program application for final authorization which was approved by EPA effective on October 24, 1984. Subsequent program revision applications were approved effective on March 7, 1989; July 22, 1991; July 14, 1992; April 13, 1993; December 13, 1994; July 21, 1997; March 15, 1999; January 16, 2001; July 8, 2002; June 11, 2003; May 23, 2008; and February 21, 2025.

(b) Enforcement authority. The State of Utah has primary responsibility for enforcing its hazardous waste management program. However, the EPA retains the authority to exercise its inspection and enforcement authorities in accordance with sections 3007, 3008, 3013, 7003 of RCRA, 42 U.S.C. 6927, 6928, 6934, 6973, and any other applicable statutory and regulatory provisions, regardless of whether the State has taken its own actions, as well as in accordance with other statutory and regulatory provisions.

(c) State statutes and regulations.

(1) Incorporation by reference. The Utah regulations cited in paragraph (c)(1)(i) of this section are incorporated by reference as part of the hazardous waste management program under subtitle C of RCRA, 42 U.S.C. 6921 et seq. You may obtain copies of the Utah regulations that are incorporated by reference in this paragraph from Utah Department of Environmental Quality, 288 North 1460 West, Salt Lake City, Utah 84114-4880; phone number: (801) 538-6776; website: https://www.deq.utah.gov/.

(i) “EPA-Approved Utah Regulatory Requirements Applicable to the Hazardous Waste Management Program,” dated June 2024.

(ii) [Reserved]

(2) Legal basis. The following provisions provide the legal basis for the State's implementation of the hazardous waste program, but they are not being incorporated by reference and do not replace Federal authorities:

(i) Utah Administrative Code (UAC), as amended January 17, 2023, Title R315, Environmental Quality, Waste Management and Radiation Control, Waste Management, Chapter R315-15, Standards for the Management of Used Oil: sections 15-1.1(j) and (k), 15-11.4(b); R315-124, Procedures for Decision Making: sections 124-1, 124-3(a) and (c), 124-5(b), 124-6(a), (b), (d), except references to R315-17 and R315-301 through R315-320 at 124-6(d)(4), (e), 124-7 through 124-13, 124-15 through 124-20, 124-34; Chapter R315-260, Hazardous Waste Management System: sections 260-1, 260-3, 260-6; Chapter R315-264, Standards for Owners and Operators of Hazardous Waste Treatment, Storage, and Disposal Facilities: section 264-4 citation to statutory provision “Section 19-5-115”; Chapter R315-270, Hazardous Waste Permit Program: sections 270-1(b)(1) and (2), 270-12, 270-32(b)(2), (b)(3), (c), and (e), 270-43(b), 270-50(a) and (b), 270-51(c).

(ii) Utah Code Annotated (UCA), 2020 Replacement as amended, 2022 Supplement, dated July 2022, Title 19, Chapter 1, Part 3: Administration: sections 19-1-306(2) and (3);

(iii) UCA 2020 Replacement as amended, 2022 Supplement, dated July 2022, Title 19, Chapter 6, Part 1: Solid and Hazardous Waste Act (SHWA): sections 19-6-102(1), (2), (5) through (9), (11), (13) through (19), (21), (23), (24), except references to solid waste, and (25); 19-6-102.1, 19-6-103, 19-6-104(1) introductory paragraph through (1)(d)(i), (1)(e), (2)(b), (6), and (7), 19-6-105(1) introductory paragraph through (1)(f), (1)(i), (2); 19-6-106, 19-6-107, 19-6-108(1) introductory paragraph through (3)(a), (3)(c) except (3)(c)(ii)(B), (3)(d), (3)(f), (3)(g), (4) through (9), (12), (13); 19-6-109; 19-6-111; 19-6-112; 19-6-113(1) through (4), (6); 19-6-114 through 19-6-116.

(iv) UCA 2020 Replacement as amended, 2022 Supplement, dated July 2022, Title 19, Chapter 6, Part 3: Hazardous Substances Mitigation Act: section 19-6-309.

(v) UCA 2020 Replacement as amended, 2022 Supplement, dated July 2022, Title 63G, Chapter 2: Utah Government Records Access and Management Act (GRAMA): sections 63G-2-103 through 105; 63G-2-201; 63G-2-202, 63G-2-203(1) through (9); 63G-2-204; 63G-2-205; 63G-2-301 through 305; 63G-2-306 through 308; 63G-2-401 through 405; 63G-2-802.

(3) Related legal provisions. The following statutory and regulatory provisions are broader in scope than the Federal program, are not part of the authorized program, are not incorporated by reference and are not federally enforceable:

(i) UCA 2020 Replacement as amended, 2022 Supplement, dated July 2022, Title 19, Chapter 6, Part 1: Solid and Hazardous Waste Act (SHWA): section 19-6-102(24) as that provision references solid waste; 19-6-105(3); 19-6-113(5); 19-6-117.5; 19-6-118; 19-6-120 through 122.

(ii) Utah Administrative Code (UAC), as amended January 17, 2023, Title R315, Environmental Quality, Waste Management and Radiation Control, Waste Management, Chapter R315-15 Standards for Management of Used Oil: sections R315-15-2.2(b) related to chlorinated paraffins; 15-2.5 introductory paragraph with respect to transporter permits and used oil handler certificates; 15-2.5(a) introductory paragraph with respect to transporter permits and used oil handler certificates; 15-2.5(b) introductory paragraph with respect to transporter permits and used oil handler certificates; 15-2.5(c) introductory paragraph with respect to transporter permits and used oil handler certificates; 15-3.2(c); 15-4.1(a) introductory paragraph with respect to used oil handler certificates; 15-5.1(b)(6) and (7); 15-5.1(c); 15-5.9 with respect to transporter permits and used oil handler certificates; 15-6.1(b)(6) with respect to on specification used oil burners; 15-6.1(c); 15-6.9; 15-7.1(d); 15-7.5(b)(4) with respect to the PCB requirements of R315-15-18; 15-7.6(a)(2) with respect to used oil handler certificates and used oil burner permits; 15-7.7; 15-9.2 with respect to transporter permits and used oil handler certificates; 15-10; 15-11.2 with respect to used oil transfer and off-specification used oil burning facilities; 15-11.4(a) with respect to used oil permits; 15-12; 15-13.1 through 15-13.4, 15-13.5(a)—(c), (e) and (f); 15-14 through 15-17; Chapter R315-260 Hazardous Waste Management System: section R315-260-10(c)(165) “Universal waste” (vi); Chapter R315-261 General Requirements—Identification and Listing of Hazardous Waste: sections R315-261-9(f); 261-31(a) table 2 F999 entry; 261-33(e) table P999 entry; Chapter R315-273 Standards for Universal Waste Management: sections R315-273-1(a)(6); 273-7; 273-9(j) “large quantity handler of universal waste” related to State-only universal waste; 273-9(n) “small quantity handler of universal waste” related to State-only universal waste; 273-9(p) “Universal waste” (6); 273-13(e); 273-14(f); 273-32(a)(2) related to notification for handlers using drum-top lamp crushers; 273-33(e); 273-34(f).

(4) Unauthorized State amendments. Utah has adopted but is not authorized for the following Federal final rules:

(i) The following Federal rules are not delegable to States. Utah has adopted these provisions and left the authority to the EPA for implementation and enforcement: Imports and Exports of Hazardous Waste: Implementation of OECD Council Decision C(92)39 Concerning the Control of Transfrontier Movements of Wastes Destined for Recovery Operations, published April 12, 1996; and Revisions to the Requirements for: Transboundary Shipments of Hazardous Wastes Between OECD Member Countries, Export Shipments of Spent Lead-Acid Batteries, Submitting Exception Reports for Export Shipments of Hazardous Wastes, and Imports of Hazardous Wastes, published January 8, 2010.

(ii) Those Federal rules written under RCRA provisions that predate HSWA (non-HSWA) which the State has adopted, but for which it is not authorized, are not federally enforceable. In contrast, the EPA will continue to enforce the Federal HSWA standards for which Utah is not authorized until the State receives specific authorization from EPA.

(5) Memorandum of Agreement. The Memorandum of Agreement between EPA Region 8 and the State of Utah, signed by the Executive Director of the Utah Department of Environmental Quality on June 14, 2016, and by the EPA Region 8 Regional Administrator on July 28, 2016, although not incorporated by reference, is referenced as part of the authorized hazardous waste management program under subtitle C of RCRA, 42 U.S.C. 6921 et seq.

(6) Statement of legal authority. “Attorney General's Statement for Final Authorization”, signed by the Attorney General of Utah on January 16, 1984, and revisions, supplements and addenda to that Statement dated October 29, 1986, March 6, 1991, September 17, 1991, September 223, 1992, November 19, 1993, March 16, 1994, March 20, 1995, November 13, 1997, and March 2, 1999, November 1, 2001, February 11, 2003, and October 13, 2022, although not incorporated by reference, are referenced as part of the authorized hazardous waste management program under subtitle C of RCRA, 42 U.S.C. 6921 et seq.

(7) Program description. The Program Description and any other materials submitted as supplements thereto, although not incorporated by reference, are referenced as part of the authorized hazardous waste management program under subtitle C of RCRA, 42 U.S.C. 6921 et seq.

3. Appendix A to part 272 is amended by revising the entry “Utah” to read as follows:

Appendix A to Part 272—State Requirements

* * * * *

Utah

The regulatory provisions include:

Utah Administrative Code (UAC), effective January 17, 2023: Chapter R315-15 Standards for Management of Used Oil: sections R315-15-1.1 introductory paragraph through 1.1(i); 1.2 through 2.1; 2.2, except reference to chlorinated paraffins in 2.2(b); 2.3; 2.4; 2.5, except references to transporter permits and used oil handler certificates in 2.5 introductory paragraph, 2.5(a) introductory paragraph, 2.5(b) introductory paragraph, and 2.5(c) introductory paragraph; 3.1 through 3.3; 4.1(a), except references to transporter permits and used oil handler certificates in 4.1(a) introductory paragraph; 4.1(b) and (c); 4.1(f); 4.2 through 4.8; 5.1(a) through (b)(5); 5.2 through 5.8; 5.9, except references to transporter permits and used oil handler certificates; 5.11; 6.1(a); 6.1(b), except references to on-specification used oil burners in 6.1(b)(6); 6.1(d); 6.2 through 6.8; 7.1(a) through (c); 7.2; 7.4; 7.5, except references to PCB requirements of R315-15-18 in 7.5(b)(4); 7.6, except references to transporter permits and used oil handler certificates in 7.6(a)(2); 8.1 through 9.1; 9.2, except references to transporter permits and used oil handler certificates; 9.3; 9.4; 11.1(a) through (c); 11.3(a) introductory paragraph and (a)(1); 11.4(a) except reference to the used oil permit; 13.5(d); 18(a).

Chapter R315-124 Procedures for Decision making: R315-124-3(d) through (g); 124-5(a), (c), (d), and (e); 124-31 through 124-33.

Chapter R315-260 Hazardous Waste Management System: sections R315-260-2; 260-4; 260-5; 260-10(a), (b), (c) introductory paragraph through (c)(165) “universal waste” (v), (c)(166) through (c)(180); 260-11; 260-19 through 260-23; 260-30 through 260-34; 260-40 through 260-43.

Chapter R315-261 General Requirements—Identification and Listing of Hazardous Waste: sections R315-261-1 through 261-4; 261-6 through 261-8; 261-9, except 9(f); 261-10; 261-11; 261-20 through 261-24; 261-30; 261-31, except F999 entry in 261-31(a) table 2; 261-32; 261-33, except P999 entry in 261-33(e) table; 261-35; 261-39 through 261-41; 261-140 through 261-151; 261-170 through 261-173; 261-175 through 261-177; 261-179; 261-190; 261-191; 261-193; 261-194; 261-196 through 261-200; 261-400; 261-410; 261-411; 261-420; 261-1030 through 261-1035; 261-1050 through 261-1064; 261-1080 through 261-1089; 261-1090 through 261-1093.

Chapter R315-262 Hazardous Waste Generator Requirements: sections R315-262-1; 262-10(a), (b), (e) through (h), (l), (n), (o); 262-11; 262-13 through 262-18, except reserved paragraphs; 262-20 through 262-25, except reserved paragraphs; 262-27; 262-30 through 262-33; 262-35; 262-40 through 262-44; 262-70; 262-200 through 262-216; 262-230 through 262-233; 262-250 through 262-256; 262-260 through 262-265.

Chapter R315-263 Standards Applicable to Transporters of Hazardous Waste and Standards Applicable to Emergency Control of Spills for Any Hazardous Waste Handlers: sections R315-263-10(a), (b), (c), (g); 263-11; 263-12; 263-20 through 263-22, except reserved paragraphs; 263-25; 263-30 through 263-34.

Chapter R315-264 Standards for Owners and Operators of Hazardous Waste Treatment, Storage, and Disposal Facilities: sections R315-264-1, except reserved paragraphs; 264-3; 264-4; 264-10; 264-11; 264-12, except (a)(2); 264-13 through 264-19; 264-30 through 264-35; 264-37; 264-50 through 264-56; 264-70; 264-71, except (a)(3) and (d); 264-72 through 264-77; 264-90, except (a)(3); 264-91 through 264-101; 264-110 through 264-120; 264-140 through 264-148; 264-151; 264-170 through 264-179; 264-190 through 264-200; 264-220 through 264-223; 264-226 through 264-232; 264-250 through 264-254; 264-256 through 264-259; 264-270 through 264-273; 264-276; 264-278 through 264-283; 264-300 through 264-304; 264-309; 264-310; 264-312 through 264-317; 264-340 through 264-345; 264-347; 264-351; 264-550 through 264-555; 264-570 through 264-575; 264-600 through 264-603; 264-1030 through 264-1036; 264-1050 through 264-1065; 264-1080 through 264-1090; 264-1100 through 264-1107.

Chapter R315-265 Interim Status Standards for Owners and Operators of Hazardous Waste Treatment, Storage, and Disposal Facilities: sections R315-265-1, except reserved paragraphs; 265-4; 265-10 through 265-19; 265-30 through 265-35; 265-37; 265-50 through 265-56; 265-70; 265-71, except (a)(3) and (d); 265-72 through 265-77; 265-90 through 265-94; 265-110 through 265-121; 265-140 through 265-148; 265-170 through 265-174; 265-176 through 265-178; 265-190 through 265-200, except reserved sections; 265-202; 265-220 through 265-226; 265-228 through 265-231; 265-250 through 265-260; 265-1030 through 265-1035; 265-1080 through 265-1090; 265-1100 through 265-1102.

Chapter R315-266 Standards for the Management of Specific Hazardous Wastes and Specific Types of Hazardous Waste Management Facilities: sections R315-266-20 through 266-23; 266-70; 266-80; 266-100 through 266-112; 266-202(d); 266-500 through 266-510; 266-600 through 266-611.

Chapter R315-268 Land Disposal Restrictions: sections R315-268-1 through 268-7; 268-9; 268-13; 268-14; 268-20; 268-30 through 268-46, except reserved paragraphs; 268-48 through 268-57.

Chapter R315-270 Hazardous Waste Permit Program: sections R315-270-1(a), (b)(3), (c); 270-2; 270-4; 270-10, except reserved paragraphs; 270-11; 270-13 through 270-31; 270-32(a), (b)(1), (d), and (e); 270-33; 270-40 through 270-43; 270-50(c) and (d); 270-51(a), (b), and (d); 270-60, except reserved paragraphs; 270-61 through 270-63; 270-65; 270-66; 270-68; 270-70 through 270-73; 270-79; 270-80; 270-85; 270-90; 270-95; 270-100; 270-105; 270-110; 270-115; 270-120; 270-125; 270-130; 270-135; 270-140; 270-145; 270-150; 270-155; 270-160; 270-165; 270-170; 270-175; 270-180; 270-185; 270-190; 270-195; 270-200; 270-205; 270-210; 270-215; 270-220; 270-230; 270-235.

Chapter R315-273 Standards for Universal Waste Management: sections R315-273-1(a) introductory paragraph through 1(a)(5); 273-1(b) and Note; 273-2 through 273-6; 273-8; 273-9(a) through (i); 273-9(j), except reference to other universal waste regulated in Rule R315-273; 273-9(k) through (m); 273-9(n), except reference to other universal waste regulated in Rule R315-273; 273-9(o); 273-9(p), except (p) “Universal Waste” (6); 273-9(q) through (s); 273-10 through 273-12; 273-13(a) introductory paragraph through (d)(2), and (f); 273-14 introductory paragraph through (e), and (g); 273-15 through 273-20; 273-30; 273-31; 273-32, except reference to R315-273-33(d)(3) in 273-32(a)(2); 273-33(a) introductory paragraph through (d)(2), and (f); 273-34 introductory paragraph through (e), and (g); 273-35 through 273-40; 273-50 through 273-56; 273-60 through 273-62; 273-70(a) through (c); 273-80; 273-81.

Utah Administrative Code (UAC), effective May 15, 1996: Chapter R315-15 Standards for Management of Used Oil: sections R315-15-7.3 and 15-11.2, except with respect to used oil transfer and off-specification used oil burning facilities.

Copies of the Utah regulations that are incorporated by reference are available from Utah Department of Environmental Quality, 288 North 1460 West, Salt Lake City, Utah 84114-4880; phone number: (801) 538-6776; website: https://www.deq.utah.gov/.

* * * * *

[FR Doc. 2024-30025 Filed 12-20-24; 8:45 am]

BILLING CODE 6560-50-P